DEPARTMENT OF COMMERCE

National Oceanic and Atmospheric Administration

50 CFR Part 679

[Docket No. 220223-0054]

RIN 0648-XY119

Fisheries of the Exclusive Economic Zone Off Alaska; Bering Sea and Aleutian Islands; Final 2022 and 2023 Harvest Specifications for Groundfish

AGENCY: National Marine Fisheries Service (NMFS), National Oceanic and Atmospheric Administration (NOAA), Commerce.

ACTION: Final rule; harvest specifications and closures.

SUMMARY: NMFS announces final 2022 and 2023 harvest specifications, apportionments, and prohibited species catch allowances for the groundfish fishery of the Bering Sea and Aleutian Islands management area (BSAI). This action is necessary to establish harvest limits for groundfish during the remainder of the 2022 and the start of the 2023 fishing years and to accomplish the goals and objectives of the Fishery Management Plan for Groundfish of the Bering Sea and Aleutian Islands Management Area (FMP). The 2022 harvest specifications supersede those previously set in the final 2021 and 2022 harvest specifications, and the 2023 harvest specifications will be superseded in early 2023 when the final 2023 and 2024 harvest specifications are published. The intended effect of this action is to conserve and manage the groundfish resources in the BSAI in accordance with the Magnuson-Stevens Fishery Conservation and Management Act (Magnuson-Stevens Act).

DATES: Harvest specifications and closures are effective from 1200 hours, Alaska local time (A.l.t.), March 2, 2022, through 2400 hours, A.l.t., December 31, 2023.

ADDRESSES: Electronic copies of the Alaska Groundfish Harvest Specifications Final Environmental Impact Statement (EIS), Record of Decision (ROD), and the annual Supplementary Information Reports (SIRs) to the Final EIS prepared for this action are available from https://www.fisheries.noaa.gov/region/alaska. The 2021 Stock Assessment and Fishery Evaluation (SAFE) report for the groundfish resources of the BSAI, dated November 2021, as well as the SAFE reports for previous years, are available from the North Pacific Fishery Management Council (Council) at 1007 West Third Ave., Suite 400, Anchorage, AK 99501, phone 907-271-2809, or from the Council's website at https://www.npfmc.org/.

FOR FURTHER INFORMATION CONTACT: Steve Whitney, 907-586-7228.

SUPPLEMENTARY INFORMATION: Federal regulations at 50 CFR part 679 implement the FMP and govern the groundfish fisheries in the BSAI. The Council prepared the FMP, and NMFS approved it, under the Magnuson-Stevens Act. General regulations governing U.S. fisheries also appear at 50 CFR part 600.

The FMP and its implementing regulations require NMFS, after consultation with the Council, to specify annually the total allowable catch (TAC) for each target species category. The sum of all TAC for all groundfish species in the BSAI must be within the optimum yield (OY) range of 1.4 million to 2.0 million metric tons (mt) (see § 679.20(a)(1)(i)(A)). This final rule specifies the sum of the TAC at 1,871,000 mt for 2022 and 2.0 million mt for 2023. NMFS also must specify apportionments of TAC; prohibited species catch (PSC) allowances and prohibited species quota (PSQ) reserves established by § 679.21; seasonal allowances of pollock, Pacific cod, and Atka mackerel TAC; American Fisheries Act allocations; Amendment 80 allocations; Community Development Quota (CDQ) reserve amounts established by § 679.20(b)(1)(ii); and acceptable biological catch (ABC) surpluses and reserves for CDQ groups and any Amendment 80 cooperatives for flathead sole, rock sole, and yellowfin sole. The final harvest specifications set forth in Tables 1 through 22 of this action satisfy these requirements.

Section 679.20(c)(3)(i) further requires that NMFS consider public comment on the proposed harvest specifications and, after consultation with the Council, publish final harvest specifications in the Federal Register. The proposed 2022 and 2023 harvest specifications for the groundfish fishery of the BSAI were published in the Federal Register on December 3, 2021 (86 FR 68608). Comments were invited and accepted through January 3, 2022. As discussed in the Response to Comments section below, NMFS received no comments during the public comment period for the proposed BSAI groundfish harvest specifications.

NMFS consulted with the Council on the final 2022 and 2023 harvest specifications during the December 2021 Council meeting. After considering public comments during public meetings, as well as biological and socioeconomic data that were available at the Council's December meeting, NMFS implements in this final rule the final 2022 and 2023 harvest specifications as recommended by the Council.

ABC and TAC Harvest Specifications

The final ABC amounts for Alaska groundfish are based on the best available biological information, including projected biomass trends, information on assumed distribution of stock biomass, and revised technical methods used to calculate stock biomass. In general, the development of ABCs and overfishing levels (OFLs) involves sophisticated statistical analyses of fish populations. The FMP specifies a series of six tiers to define OFL and ABC amounts based on the level of reliable information available to fishery scientists. Tier 1 represents the highest level of information quality available, while Tier 6 represents the lowest.

In December 2021, the Council, its Scientific and Statistical Committee (SSC), and its Advisory Panel (AP) reviewed current biological and harvest information about the condition of the BSAI groundfish stocks. The Council's BSAI Groundfish Plan Team (Plan Team) compiled and presented this information in the 2021 SAFE report for the BSAI groundfish fisheries, dated November 2021 (see ADDRESSES). The SAFE report contains a review of the latest scientific analyses and estimates of each species' biomass and other biological parameters, as well as summaries of the available information on the BSAI ecosystem and the economic condition of groundfish fisheries off Alaska. NMFS notified the public of the comment period for these harvest specifications—and of the publication of the 2021 SAFE report—in the notice of proposed harvest specifications. From the data and analyses in the SAFE report, the Plan Team recommended an OFL and ABC for each species or species group at the November 2021 Plan Team meeting.

In December 2021, the SSC, AP, and Council reviewed the Plan Team's recommendations. The final TAC recommendations were based on the ABCs, and were adjusted for other biological and socioeconomic considerations, including maintaining the sum of all the TACs within the required OY range of 1.4 million to 2.0 million mt. As required by annual catch limit rules for all fisheries (74 FR 3178, January 16, 2009), none of the Council's recommended 2022 or 2023 TACs exceed the final 2022 or 2023 ABCs for any species or species group. NMFS finds that the Council's recommended OFLs, ABCs, and TACs are consistent with the preferred harvest strategy outlined in the FMP and the biological condition of groundfish stocks as described in the 2021 SAFE report that was approved by the Council. Therefore, this final rule provides notice that the Secretary of Commerce approves the final 2022 and 2023 harvest specifications as recommended by the Council.

The 2022 harvest specifications set in this final action supersede the 2022 harvest specifications previously set in the final 2021 and 2022 harvest specifications (86 FR 11449, February 25, 2021). The 2023 harvest specifications herein will be superseded in early 2023 when the final 2023 and 2024 harvest specifications are published. Pursuant to this final action, the 2022 harvest specifications therefore will apply for the remainder of the current year (2022), while the 2023 harvest specifications are projected only for the following year (2023) and will be superseded in early 2023 by the final 2023 and 2024 harvest specifications. Because this final action (published in early 2022) will be superseded in early 2023 by the publication of the final 2023 and 2024 harvest specifications, it is projected that this final action will implement the harvest specifications for the BSAI for approximately one year.

Other Actions Affecting the 2022 and 2023 Harvest Specifications

State of Alaska Guideline Harvest Levels

For 2022 and 2023, the Board of Fisheries (BOF) for the State of Alaska (State) established the guideline harvest level (GHL) for vessels using pot gear in State waters in the Bering Sea subarea (BS) equal to 11 percent of the Pacific cod ABC in the BS. The State's pot gear BS GHL will increase one percent annually up to 15 percent of the BS ABC, if 90 percent of the GHL is harvested by November 15 of the preceding year. If 90 percent of the 2022 BS GHL is not harvested by November 15, 2022, then the 2023 BS GHL will remain at the same percentage as the 2022 BS GHL (11 percent). If 90 percent of the 2022 BS GHL is harvested by November 15, 2022, then the 2023 BS GHL will increase by one percent and the 2023 BS TAC will be set to account for the increased BS GHL. Also, for 2021 and 2022, the BOF established an additional GHL for vessels using jig gear in State waters in the BS equal to 45 mt of Pacific cod in the BS. The Council and its Plan Team, SSC, and AP recommended that the sum of all State and Federal water Pacific cod removals from the BS not exceed the ABC recommendations for Pacific cod in the BS. Accordingly, the Council recommended, and NMFS approves, that the 2022 and 2023 Pacific cod TACs in the BS account for the State's GHLs for Pacific cod caught in State waters in the BS.

For 2022 and 2023, the BOF for the State established the GHL in State waters in the Aleutian Islands subarea (AI) equal to 39 percent of the AI ABC. The AI GHL will increase annually by 4 percent of the AI ABC, if 90 percent of the GHL is harvested by November 15 of the preceding year, but may not exceed 39 percent of the AI ABC or 15 million pounds (6,804 mt). For 2022, 39 percent of the AI ABC is 8,034 mt, which exceeds the AI GHL limit of 6,804 mt. The Council and its Plan Team, SSC, and AP recommended that the sum of all State and Federal water Pacific cod removals from the AI not exceed the ABC recommendations for Pacific cod in the AI. Accordingly, the Council recommended, and NMFS approves, that the 2022 and 2023 Pacific cod TACs in the AI account for the State's GHL of 6,804 mt for Pacific cod caught in State waters in the AI.

Abundance Based Management (ABM) of Amendment 80 Program Halibut PSC Limit

At the December 2021 meeting, the Council recommended that the ABM Program that would determine the annual Amendment 80 halibut PSC limit be based on the most recent survey values and the PSC limit value associated with those survey values. Under this ABM Program, the Amendment 80 halibut PSC limit would increase and decrease according to the survey indices of abundance, and would be responsive to changing halibut stock conditions that affect all halibut users, while never exceeding the current Amendment 80 PSC limit. If approved by the Secretary of Commerce, the rulemaking implementing this action would occur in either 2023 (mid-year) or the beginning of the 2024 fishing year and supersede the current Amendment 80 halibut PSC limits.

Changes From the Proposed 2022 and 2023 Harvest Specifications for the BSAI

The Council's recommendations for the proposed 2022 and 2023 harvest specifications (86 FR 68608, December 3, 2021) were based largely on information contained in the 2020 SAFE report for the BSAI groundfish fisheries. Through the proposed harvest specifications, NMFS notified the public that these harvest specifications could change, as the Council would consider information contained in the 2021 SAFE report; recommendations from the Plan Team, SSC, and AP; and public comments when making its recommendations for final harvest specifications at the December 2021 Council meeting. NMFS further notified the public that, as required by the FMP and its implementing regulations, the sum of the TACs must be within the OY range of 1.4 million and 2.0 million mt.

Information contained in the 2021 SAFE report indicates biomass changes from the 2020 SAFE report for several groundfish species. The 2021 SAFE report was made available for public review during the public comment period for the proposed harvest specifications. At the December 2021 Council meeting, the SSC recommended the 2022 and 2023 OFLs and ABCs based on the best and most recent information contained in the 2021 SAFE report. The SSC's recommendation resulted in an ABC sum total for all BSAI groundfish species in excess of 2.0 million mt for both 2022 and 2023.

Based on lower spawning biomass estimates, the Council recommends final BS pollock TACs decrease by 289,000 mt in 2022 and 111,000 mt in 2023 compared to the proposed 2022 and 2023 BS pollock TACs. The large reduction in pollock TAC leads to more available TAC for other fisheries while still maintaining an overall total TAC within the required OY range of 1.4 to 2.0 million mt. This leads to an increase to almost all non-pollock TACs in 2022 and 2023, except for TACs for those species restricted by biomass limitations. Specifically, there were no other decreases in non-pollock TACs in 2022. In 2023, there were small decreases in terms of tonnage and percentage decrease from proposed TACs for Bering Sea (BS) Greenland turbot, Aleutian Islands (AI) Greenland turbot, BS Pacific ocean perch, Central Aleutian Islands (CAI) Pacific ocean perch, and Eastern Aleutian Islands (EAI) Pacific ocean perch.

The changes to TACs between the proposed and final harvest specifications are based on the most recent scientific and socioeconomic information and are consistent with the FMP, regulatory obligations, and harvest strategy as described in the proposed and final harvest specifications, including the required OY range of 1.4 million to 2.0 million mt. These changes are compared in Table 1A.

Table 1 lists the Council's recommended final 2022 OFL, ABC, TAC, initial TAC (ITAC), CDQ reserve allocations, and non-specified reserves of the BSAI groundfish species or species groups; and Table 2 lists the Council's recommended final 2023 OFL, ABC, TAC, ITAC, CDQ reserve allocations, and non-specified reserves of the BSAI groundfish species or species groups. NMFS concurs in these recommendations. These final 2022 and 2023 TAC amounts for the BSAI are within the OY range established for the BSAI and do not exceed the ABC for any species or species group. The apportionment of TAC amounts among fisheries and seasons is discussed below.

Table 1—Final 2022 Overfishing Level (OFL), Acceptable Biological Catch (ABC), Total Allowable Catch (TAC), Initial TAC (ITAC), CDQ Reserve Allocation, and Nonspecified Reserves of Groundfish in the BSAI ¹
[Amounts are in metric tons]
Species | Area | 2022: OFL | 2022: ABC | 2022: TAC | 2022: ITAC ² | 2022: CDQ ³ | 2022: Nonspecified reserves
Pollock ⁴ | BS | 1,469,000 | 1,111,000 | 1,111,000 | 999,900 | 111,100 |
| AI | 61,264 | 50,752 | 19,000 | 17,100 | 1,900 |
| Bogoslof | 113,479 | 85,109 | 250 | 250 |  |
Pacific cod ⁵ | BS | 183,012 | 153,383 | 136,466 | 121,864 | 14,602 |
| AI | 27,400 | 20,600 | 13,796 | 12,320 | 1,476 |
Sablefish ⁶ | Alaska-wide | 40,432 | 34,521 | n/a | n/a | n/a |
| BS | n/a | 5,264 | 5,264 | 4,343 | 724 | 197
| AI | n/a | 6,463 | 6,463 | 5,251 | 1,091 | 121
Yellowfin sole | BSAI | 377,071 | 354,014 | 250,000 | 223,250 | 26,750 |
Greenland turbot | BSAI | 7,687 | 6,572 | 6,572 | 5,586 | n/a |
| BS | n/a | 5,540 | 5,540 | 4,709 | 593 | 238
| AI | n/a | 1,032 | 1,032 | 877 |  | 155
Arrowtooth flounder | BSAI | 94,445 | 80,389 | 20,000 | 17,000 | 2,140 | 860
Kamchatka flounder | BSAI | 10,903 | 9,214 | 9,214 | 7,832 |  | 1,382
Rock sole ⁷ | BSAI | 214,084 | 206,896 | 66,000 | 58,938 | 7,062 |
Flathead sole ⁸ | BSAI | 77,967 | 64,288 | 35,500 | 31,702 | 3,799 |
Alaska plaice | BSAI | 39,305 | 32,697 | 29,221 | 24,838 |  | 4,383
Other flatfish ⁹ | BSAI | 22,919 | 17,189 | 10,000 | 8,500 |  | 1,500
Pacific ocean perch | BSAI | 42,605 | 35,688 | 35,385 | 31,154 | n/a |
| BS | n/a | 10,352 | 10,352 | 8,799 |  | 1,553
| EAI | n/a | 8,083 | 8,083 | 7,218 | 865 |
| CAI | n/a | 5,950 | 5,950 | 5,313 | 637 |
| WAI | n/a | 11,303 | 11,000 | 9,823 | 1,177 |
Northern rockfish | BSAI | 23,420 | 19,217 | 17,000 | 14,450 |  | 2,550
Blackspotted/Rougheye rockfish ¹⁰ | BSAI | 598 | 503 | 503 | 428 |  | 75
| BS/EAI | n/a | 326 | 326 | 277 |  | 49
| CAI/WAI | n/a | 177 | 177 | 150 |  | 27
Shortraker rockfish | BSAI | 722 | 541 | 541 | 460 |  | 81
Other rockfish ¹¹ | BSAI | 1,751 | 1,313 | 1,144 | 972 |  | 172
| BS | n/a | 919 | 750 | 638 |  | 113
| AI | n/a | 394 | 394 | 335 |  | 59
Atka mackerel | BSAI | 91,870 | 78,510 | 66,481 | 59,368 | 7,113 |
| BS/EAI | n/a | 27,260 | 27,260 | 24,343 | 2,917 |
| CAI | n/a | 16,880 | 16,880 | 15,074 | 1,806 |
| WAI | n/a | 34,370 | 22,341 | 19,951 | 2,390 |
Skates | BSAI | 47,790 | 39,958 | 30,000 | 25,500 |  | 4,500
Sharks | BSAI | 689 | 517 | 500 | 425 |  | 75
Octopuses | BSAI | 4,769 | 3,576 | 700 | 595 |  | 105
Total |  | 2,953,182 | 2,383,653 | 1,871,000 | 1,672,024 | 181,028 | 17,948
¹ These amounts apply to the entire BSAI management area unless otherwise specified. With the exception of pollock, and for the purpose of these harvest specifications, the Bering Sea subarea (BS) includes the Bogoslof District.
² Except for pollock, the portion of the sablefish TAC allocated to hook-and-line and pot gear, and Amendment 80 species (Atka mackerel, yellowfin sole, rock sole, flathead sole, Pacific cod, and Aleutian Islands Pacific ocean perch), 15 percent of each TAC is put into a non-specified reserve. The ITAC for these species is the remainder of the TAC after the subtraction of these reserves. For pollock and Amendment 80 species, ITAC is the non-CDQ allocation of TAC (see footnotes 3 and 4).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, Kamchatka flounder, northern rockfish, shortraker rockfish, blackspotted/rougheye rockfish, “other rockfish,” skates, sharks, and octopuses are not allocated to the CDQ program.
⁴ Under § 679.20(a)(5)(i)(A), the annual BS pollock TAC, after subtracting first for the CDQ directed fishing allowance (10 percent) and second for the incidental catch allowance (4.95 percent), is further allocated by sector for a pollock directed fishery as follows: Inshore—50 percent; catcher/processor—40 percent; and motherships—10 percent. Under § 679.20(a)(5)(iii)(B)(2), the annual AI pollock TAC, after subtracting first for the CDQ directed fishing allowance (10 percent) and second for the incidental catch allowance (2,500 mt), is allocated to the Aleut Corporation for a pollock directed fishery.
⁵ The BS Pacific cod TAC is set to account for the 11 percent, plus 45 mt, of the BS ABC for the State of Alaska's (State) guideline harvest level in State waters of the BS. The AI Pacific cod TAC is set to account for 39 percent of the AI ABC for the State guideline harvest level in State waters of the AI, except 39 percent of the AI ABC exceeds the State guideline harvest level of 15 million pounds (6,804 mt), in which case the TAC is set to account for the State guideline harvest level of 6,804 mt.
⁶ The sablefish OFL and ABC are Alaska-wide and include the Gulf of Alaska.
⁷ “Rock sole” includes Lepidopsetta polyxystra (Northern rock sole) and Lepidopsetta bilineata (Southern rock sole).
⁸ “Flathead sole” includes Hippoglossoides elassodon (flathead sole) and Hippoglossoides robustus (Bering flounder).
⁹ “Other flatfish” includes all flatfish species, except for halibut (a prohibited species), Alaska plaice, arrowtooth flounder, flathead sole, Greenland turbot, Kamchatka flounder, rock sole, and yellowfin sole.
¹⁰ “Blackspotted/Rougheye rockfish” includes Sebastes melanostictus (blackspotted) and Sebastes aleutianus (rougheye).
¹¹ “Other rockfish” includes all Sebastes and Sebastolobus species except for dark rockfish, Pacific ocean perch, northern rockfish, blackspotted/rougheye rockfish, and shortraker rockfish.
Note: Regulatory areas and districts are defined at § 679.2 (BSAI = Bering Sea and Aleutian Islands management area, BS = Bering Sea subarea, AI = Aleutian Islands subarea, EAI = Eastern Aleutian district, CAI = Central Aleutian district, WAI = Western Aleutian district).

Table 1A—Comparison of Final 2022 and 2023 With Proposed 2022 and 2023 Total Allowable Catch in the BSAI
[Amounts are in metric tons]
Species | Area ¹ | 2022 final TAC | 2022 proposed TAC | 2022 difference from proposed | 2022 percentage difference from proposed | 2023 final TAC | 2023 proposed TAC | 2023 difference from proposed | 2023 percentage difference from proposed
Pollock | BS | 1,111,000 | 1,400,000 | (289,000) | (20.6) | 1,289,000 | 1,400,000 | (111,000) | (7.9)
| AI | 19,000 | 19,000 |  |  | 19,000 | 19,000 |  |
| Bogoslof | 250 | 100 | 150 | 150.0 | 250 | 100 | 150 | 150.0
Pacific cod | BS | 136,466 | 95,053 | 41,413 | 43.6 | 133,459 | 95,053 | 38,406 | 40.4
| AI | 13,796 | 13,796 |  |  | 13,796 | 13,796 |  |
Sablefish | BS | 5,264 | 4,863 | 401 | 8.2 | 6,529 | 4,863 | 1,666 | 34.3
| AI | 6,463 | 5,061 | 1,402 | 27.7 | 7,786 | 5,061 | 2,725 | 53.8
Yellowfin sole | BSAI | 250,000 | 200,000 | 50,000 | 25.0 | 230,000 | 200,000 | 30,000 | 15.0
Greenland turbot | BS | 5,540 | 5,125 | 415 | 8.1 | 4,825 | 5,125 | (300) | (5.9)
| AI | 1,032 | 900 | 132 | 14.7 | 899 | 900 | (1) | (0.1)
Arrowtooth flounder | BSAI | 20,000 | 15,000 | 5,000 | 33.3 | 20,000 | 15,000 | 5,000 | 33.3
Kamchatka flounder | BSAI | 9,214 | 8,982 | 232 | 2.6 | 9,393 | 8,982 | 411 | 4.6
Rock sole | BSAI | 66,000 | 54,500 | 11,500 | 21.1 | 55,000 | 54,500 | 500 | 0.9
Flathead sole | BSAI | 35,500 | 25,000 | 10,500 | 42.0 | 25,500 | 25,000 | 500 | 2.0
Alaska plaice | BSAI | 29,221 | 22,500 | 6,721 | 29.9 | 29,082 | 22,500 | 6,582 | 29.3
Other flatfish | BSAI | 10,000 | 6,500 | 3,500 | 53.8 | 10,000 | 6,500 | 3,500 | 53.8
Pacific ocean perch | BS | 10,352 | 10,298 | 54 | 0.5 | 9,956 | 10,298 | (342) | (3.3)
| EAI | 8,083 | 8,041 | 42 | 0.5 | 7,774 | 8,041 | (267) | (3.3)
| CAI | 5,950 | 5,919 | 31 | 0.5 | 5,722 | 5,919 | (197) | (3.3)
| WAI | 11,000 | 10,500 | 500 | 4.8 | 10,500 | 10,500 |  |
Northern rockfish | BSAI | 17,000 | 13,000 | 4,000 | 30.8 | 17,000 | 13,000 | 4,000 | 30.8
Blackspotted and Rougheye rockfish | BS/EAI | 326 | 150 | 176 | 117.3 | 334 | 150 | 184 | 122.7
| CAI/WAI | 177 | 176 | 1 | 0.6 | 183 | 176 | 7 | 4.0
Shortraker rockfish | BSAI | 541 | 225 | 316 | 140.4 | 541 | 225 | 316 | 140.4
Other rockfish | BS | 750 | 300 | 450 | 150.0 | 919 | 300 | 619 | 206.3
| AI | 394 | 394 |  |  | 394 | 394 |  |
Atka mackerel | EAI/BS | 27,260 | 23,880 | 3,380 | 14.2 | 25,000 | 23,880 | 1,120 | 4.7
| CAI | 16,880 | 14,330 | 2,550 | 17.8 | 15,470 | 14,330 | 1,140 | 8.0
| WAI | 22,341 | 19,507 | 2,834 | 14.5 | 20,488 | 19,507 | 981 | 5.0
Skates | BSAI | 30,000 | 16,000 | 14,000 | 87.5 | 30,000 | 16,000 | 14,000 | 87.5
Sharks | BSAI | 500 | 200 | 300 | 150.0 | 500 | 200 | 300 | 150.0
Octopuses | BSAI | 700 | 700 |  |  | 700 | 700 | 700 |
Total | BSAI | 1,871,000 | 2,000,000 | (129,000) | (6.5) | 2,000,000 | 2,000,000 |  |
¹ Bering Sea subarea (BS), Aleutian Islands subarea (AI), Bering Sea and Aleutian Islands management area (BSAI), Eastern Aleutian District (EAI), Central Aleutian District (CAI), and Western Aleutian District (WAI).

Table 2—Final 2023 Overfishing Level (OFL), Acceptable Biological Catch (ABC), Total Allowable Catch (TAC), Initial TAC (ITAC), CDQ Reserve Allocation, and Nonspecified Reserves of Groundfish in the BSAI ¹
[Amounts are in metric tons]
Species | Area | 2023: OFL | 2023: ABC | 2023: TAC | 2023: ITAC ² | 2023: CDQ ³ | 2023: Nonspecified reserves
Pollock ⁴ | BS | 1,704,000 | 1,289,000 | 1,289,000 | 1,160,100 | 128,900 |
| AI | 61,379 | 50,825 | 19,000 | 17,100 | 1,900 |
| Bogoslof | 113,479 | 85,109 | 250 | 250 |  |
Pacific cod ⁵ | BS | 180,909 | 151,709 | 133,459 | 119,179 | 14,280 |
| AI | 27,400 | 20,600 | 13,796 | 12,320 | 1,476 |
Sablefish ⁶ | Alaska-wide | 42,520 | 36,318 | n/a | n/a | n/a |
| BS | n/a | 6,529 | 6,529 | 2,775 | 245 | 245
| AI | n/a | 7,786 | 7,786 | 1,655 | 146 | 146
Yellowfin sole | BSAI | 382,035 | 358,675 | 230,000 | 205,390 | 24,610 |
Greenland turbot | BSAI | 6,698 | 5,724 | 5,724 | 4,865 | n/a |
| BS | n/a | 4,825 | 4,825 | 4,101 | 516 | 207
| AI | n/a | 899 | 899 | 764 |  | 135
Arrowtooth flounder | BSAI | 97,944 | 83,389 | 20,000 | 17,000 | 2,140 | 860
Kamchatka flounder | BSAI | 11,115 | 9,393 | 9,393 | 7,984 |  | 1,409
Rock sole ⁷ | BSAI | 280,621 | 271,199 | 55,000 | 49,115 | 5,885 |
Flathead sole ⁸ | BSAI | 80,034 | 65,988 | 25,500 | 22,772 | 2,729 |
Alaska plaice | BSAI | 39,685 | 32,998 | 29,082 | 24,720 |  | 4,362
Other flatfish ⁹ | BSAI | 22,919 | 17,189 | 10,000 | 8,500 |  | 1,500
Pacific ocean perch | BSAI | 40,977 | 34,322 | 33,952 | 29,891 | n/a |
| BS | n/a | 9,956 | 9,956 | 8,463 |  | 1,493
| EAI | n/a | 7,774 | 7,774 | 6,942 | 832 |
| CAI | n/a | 5,722 | 5,722 | 5,110 | 612 |
| WAI | n/a | 10,870 | 10,500 | 9,377 | 1,124 |
Northern rockfish | BSAI | 22,594 | 18,538 | 17,000 | 14,450 |  | 2,550
Blackspotted/Rougheye rockfish ¹⁰ | BSAI | 615 | 517 | 517 | 439 |  | 78
| BS/EAI | n/a | 334 | 334 | 284 |  | 50
| CAI/WAI | n/a | 183 | 183 | 156 |  | 27
Shortraker rockfish | BSAI | 722 | 541 | 541 | 460 |  | 81
Other rockfish ¹¹ | BSAI | 1,751 | 1,313 | 1,313 | 1,116 |  | 197
| BS | n/a | 919 | 919 | 781 |  | 138
| AI | n/a | 394 | 394 | 335 |  | 59
Atka mackerel | BSAI | 84,440 | 71,990 | 60,958 | 54,435 | 6,523 |
| EAI/BS | n/a | 25,000 | 25,000 | 22,325 | 2,675 |
| CAI | n/a | 15,470 | 15,470 | 13,815 | 1,655 |
| WAI | n/a | 31,520 | 20,488 | 18,296 | 2,192 |
Skates | BSAI | 46,475 | 38,824 | 30,000 | 25,500 |  | 4,500
Sharks | BSAI | 689 | 517 | 500 | 425 |  | 75
Octopuses | BSAI | 4,769 | 3,576 | 700 | 595 |  | 105
Total |  | 3,253,770 | 2,626,251 | 2,000,000 | 1,781,036 | 191,917 | 17,943
¹ These amounts apply to the entire BSAI management area unless otherwise specified. With the exception of pollock, and for the purpose of these harvest specifications, the Bering Sea subarea (BS) includes the Bogoslof District.
² Except for pollock, the portion of the sablefish TAC allocated to hook-and-line and pot gear, and Amendment 80 species (Atka mackerel, flathead sole, rock sole, yellowfin sole, Pacific cod, and Aleutian Islands Pacific ocean perch), 15 percent of each TAC is put into a non-specified reserve. The ITAC for these species is the remainder of the TAC after the subtraction of these reserves. For pollock and Amendment 80 species, ITAC is the non-CDQ allocation of TAC (see footnotes 3 and 4).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). The 2023 hook-and-line or pot gear portion of the sablefish ITAC and CDQ reserve will not be specified until the final 2023 and 2024 harvest specifications. Aleutian Islands Greenland turbot, “other flatfish,” Alaska plaice, Bering Sea Pacific ocean perch, Kamchatka flounder, northern rockfish, shortraker rockfish, blackspotted/rougheye rockfish, “other rockfish,” skates, sharks, and octopuses are not allocated to the CDQ program.
⁴ Under § 679.20(a)(5)(i)(A), the annual BS pollock TAC, after subtracting first for the CDQ directed fishing allowance (10 percent) and second for the incidental catch allowance (4.27 percent), is further allocated by sector for a pollock directed fishery as follows: Inshore—50 percent; catcher/processor—40 percent; and motherships—10 percent. Under § 679.20(a)(5)(iii)(B)(2), the annual AI pollock TAC, after subtracting first for the CDQ directed fishing allowance (10 percent) and second for the incidental catch allowance (2,500 mt), is allocated to the Aleut Corporation for a pollock directed fishery.
⁵ Assuming an increase in the 2023 guideline harvest level based on the actual 2022 harvest, the 2023 BS Pacific cod TAC is set to account for the 12 percent, plus 45 mt, of the BS ABC for the State of Alaska's (State) guideline harvest level in State waters of the BS. The 2023 AI Pacific cod TAC is set to account for 39 percent of the AI ABC for the State guideline harvest level in State waters of the AI, except 39 percent of the AI ABC exceeds the State guideline harvest level of 15 million pounds (6,804 mt), in which case the TAC is set to account for the State guideline harvest level of 6,804 mt.
⁶ The sablefish OFL and ABC are Alaska-wide and include the Gulf of Alaska.
⁷ “Rock sole” includes Lepidopsetta polyxystra (Northern rock sole) and Lepidopsetta bilineata (Southern rock sole).
⁸ “Flathead sole” includes Hippoglossoides elassodon (flathead sole) and Hippoglossoides robustus (Bering flounder).
⁹ “Other flatfish” includes all flatfish species, except for halibut (a prohibited species), Alaska plaice, arrowtooth flounder, flathead sole, Greenland turbot, Kamchatka flounder, rock sole, and yellowfin sole.
¹⁰ “Blackspotted/Rougheye rockfish” includes Sebastes melanostictus (blackspotted) and Sebastes aleutianus (rougheye).
¹¹ “Other rockfish” includes all Sebastes and Sebastolobus species except for dark rockfish, Pacific ocean perch, northern rockfish, blackspotted/rougheye rockfish, and shortraker rockfish.
Note: Regulatory areas and districts are defined at § 679.2 (BSAI = Bering Sea and Aleutian Islands management area, BS = Bering Sea subarea, AI = Aleutian Islands subarea, EAI = Eastern Aleutian district, CAI = Central Aleutian district, WAI = Western Aleutian district).

Groundfish Reserves and the Incidental Catch Allowance (ICA) for Pollock, Atka Mackerel, Flathead Sole, Rock Sole, Yellowfin Sole, and AI Pacific Ocean Perch

Section 679.20(b)(1)(i) requires that NMFS reserve 15 percent of the TAC for each target species (except for pollock, hook-and-line and pot gear allocation of sablefish, and Amendment 80 species) in a non-specified reserve. Section 679.20(b)(1)(ii)(B) requires that NMFS allocate 20 percent of the hook-and-line or pot gear allocation of sablefish to the fixed-gear sablefish CDQ reserve for each subarea. Section 679.20(b)(1)(ii)(D) requires that NMFS allocate 7.5 percent of the trawl gear allocations of sablefish in the BS and AI and 10.7 percent of the BS Greenland turbot and arrowtooth flounder TACs to the respective CDQ reserves. Section 679.20(b)(1)(ii)(C) requires that NMFS allocate 10.7 percent of the TACs for Atka mackerel, AI Pacific ocean perch, yellowfin sole, rock sole, flathead sole, and Pacific cod to the respective CDQ reserves. Sections 679.20(a)(5)(i)(A) and 679.31(a) also require that 10 percent of the BS pollock TAC be allocated to the pollock CDQ directed fishing allowance (DFA). Sections 679.20(a)(5)(iii)(B)(2)(i) and 679.31(a) require that 10 percent of the AI pollock TAC be allocated to the pollock CDQ DFA. The entire Bogoslof District pollock TAC is allocated as an ICA pursuant to § 679.20(a)(5)(ii) because the Bogoslof District is closed to directed fishing for pollock by regulation (§ 679.22(a)(7)(B)). With the exception of the hook-and-line or pot gear sablefish CDQ reserve, the regulations do not further apportion the CDQ allocations by gear.

Pursuant to § 679.20(a)(5)(i)(A)(1), NMFS allocates a pollock ICA of 49,500 mt of the BS pollock TAC after subtracting the 10 percent CDQ DFA. This allowance is based on NMFS's examination of the pollock incidental catch, including the incidental catch by CDQ vessels, in target fisheries other than pollock from 2000 through 2021. During this 22-year period, the pollock incidental catch ranged from a low of 2.2 percent in 2006 to a high of 4.6 percent in 2014, with a 22-year average of 3 percent. Pursuant to § 679.20(a)(5)(iii)(B)(2)(i) and (ii), NMFS establishes a pollock ICA of 2,500 mt of the AI pollock TAC after subtracting the 10 percent CDQ DFA. This allowance is based on NMFS's examination of the pollock incidental catch, including the incidental catch by CDQ vessels, in target fisheries other than pollock from 2003 through 2021. During this 19-year period, the incidental catch of pollock ranged from a low of 5 percent in 2006 to a high of 17 percent in 2014, with a 19-year average of 9 percent.

After subtracting the 10.7 percent CDQ reserve and pursuant to § 679.20(a)(8) and (10), NMFS allocates ICAs of 3,000 mt of flathead sole, 6,000 mt of rock sole, 4,000 mt of yellowfin sole, 10 mt of WAI Pacific ocean perch, 60 mt of CAI Pacific ocean perch, 100 mt of EAI Pacific ocean perch, 20 mt of WAI Atka mackerel, 75 mt of CAI Atka mackerel, and 800 mt of EAI and BS Atka mackerel. These ICA allowances are based on NMFS's examination of the incidental catch in other target fisheries from 2003 through 2021.

The regulations do not designate the remainder of the non-specified reserve by species or species group. Any amount of the reserve may be apportioned to a target species that contributed to the non-specified reserves during the year, provided that such apportionments are consistent with § 679.20(a)(3) and do not result in overfishing (see § 679.20(b)(1)(i)). The Regional Administrator has determined that the ITACs specified for certain species listed in Tables 1 and 2 need to be supplemented from the non-specified reserve because U.S. fishing vessels have demonstrated the capacity to catch the full TAC allocations. Therefore, in accordance with § 679.20(b), NMFS is apportioning the amounts shown in Table 3 from the non-specified reserve to increase the ITAC for AI “other rockfish” by 15 percent of the “other rockfish” TAC in 2022 and 2023.

Table 3-Final 2022 and 2023 Apportionment of Non-Specified Reserves to ITAC Categories
[Amounts are in metric tons]
Species-area or subarea | 2022 ITAC | 2022 reserve amount | 2022 final TAC | 2023 ITAC | 2023 reserve amount | 2023 final TAC
Other rockfish-Aleutian Islands subarea | 335 | 59 | 394 | 335 | 59 | 394
Total | 335 | 59 | 394 | 335 | 59 | 394

Allocation of Pollock TAC Under the American Fisheries Act (AFA)

Section 679.20(a)(5)(i)(A) requires that the BS pollock TAC be apportioned as a DFA, after subtracting 10 percent for the CDQ program and 4.95 percent in 2022 and 4.27 percent in 2023 for the ICA, as follows: 50 percent to the inshore sector, 40 percent to the catcher/processor (CP) sector, and 10 percent to the mothership sector. In the BS, 45 percent of the DFA is allocated to the A season (January 20-June 10), and 55 percent of the DFA is allocated to the B season (June 10-November 1) (§§ 679.20(a)(5)(i)(B)(1) and 679.23(e)(2)). The AI directed pollock fishery allocation to the Aleut Corporation is the amount of pollock TAC remaining in the AI after subtracting 1,900 mt for the CDQ DFA (10 percent) and 2,500 mt for the ICA (§ 679.20(a)(5)(iii)(B)(2)). In the AI, the total A season apportionment of the TAC (including the AI directed fishery allocation, the CDQ DFA, and the ICA) may equal up to 40 percent of the ABC for AI pollock, and the remainder of the TAC is allocated to the B season (§ 679.20(a)(5)(iii)(B)(3)). Tables 4 and 5 list these 2022 and 2023 amounts.

Section 679.20(a)(5)(iii)(B)(6) sets harvest limits for pollock in the A season (January 20 to June 10) in Areas 543, 542, and 541. In Area 543, the A season pollock harvest limit is no more than 5 percent of the AI pollock ABC. In Area 542, the A season pollock harvest limit is no more than 15 percent of the AI pollock ABC. In Area 541, the A season pollock harvest limit is no more than 30 percent of the AI pollock ABC.

Section 679.20(a)(5)(i)(A)(4) also includes several specific requirements regarding BS pollock allocations. First, it requires that 8.5 percent of the pollock allocated to the CP sector be available for harvest by AFA catcher vessels (CVs) with CP sector endorsements, unless the Regional Administrator receives a cooperative contract that allows for the distribution of harvest among AFA CPs and AFA CVs in a manner agreed to by all members. Second, AFA CPs not listed in the AFA are limited to harvesting not more than 0.5 percent of the pollock allocated to the CP sector. Tables 4 and 5 list the 2022 and 2023 allocations of pollock TAC. Table 20 lists the AFA CP prohibited species sideboard limits, and Tables 21 and 22 list the AFA CV groundfish and prohibited species sideboard limits. The tables for the pollock allocations to the BS inshore pollock cooperatives and open access sector will be posted on the Alaska Region website at https://www.fisheries.noaa.gov/alaska/sustainable-fisheries/alaska-groundfish-fisheries-management.

Tables 4 and 5 also list seasonal apportionments of pollock and harvest limits within the Steller Sea Lion Conservation Area (SCA). The harvest of pollock within the SCA, as defined at § 679.22(a)(7)(vii), is limited to no more than 28 percent of the annual pollock DFA before 12:00 noon, April 1, as provided in § 679.20(a)(5)(i)(C). The A season pollock SCA harvest limit will be apportioned to each sector in proportion to each sector's allocated percentage of the DFA.

Table 4—Final 2022 Allocations of Pollock TACs to the Directed Pollock Fisheries and to the CDQ Directed Fishing Allowances (DFA) ¹
[Amounts are in metric tons]
Area and sector | 2022 Allocations | 2022 A season ¹: A season DFA | 2022 A season ¹: SCA harvest limit ² | 2022 B season ¹: B season DFA
Bering Sea subarea TAC ¹ | 1,111,000 | n/a | n/a | n/a
CDQ DFA | 111,100 | 49,995 | 31,108 | 61,105
ICA ¹ | 49,500 | n/a | n/a | n/a
Total Bering Sea non-CDQ DFA | 950,400 | 427,680 | 266,112 | 522,720
AFA Inshore | 475,200 | 213,840 | 133,056 | 261,360
AFA Catcher/Processors ³ | 380,160 | 171,072 | 106,445 | 209,088
Catch by CPs | 347,846 | 156,531 | n/a | 191,316
Catch by CVs ³ | 32,314 | 14,541 | n/a | 17,772
Unlisted CP Limit ⁴ | 1,901 | 855 | n/a | 1,045
AFA Motherships | 95,040 | 42,768 | 26,611 | 52,272
Excessive Harvesting Limit ⁵ | 166,320 | n/a | n/a | n/a
Excessive Processing Limit ⁶ | 285,120 | n/a | n/a | n/a
Aleutian Islands subarea ABC | 50,752 | n/a | n/a | n/a
Aleutian Islands subarea TAC ¹ | 19,000 | n/a | n/a | n/a
CDQ DFA | 1,900 | 1,900 | n/a |
ICA | 2,500 | 1,250 | n/a | 1,250
Aleut Corporation | 14,600 | 14,600 | n/a |
Area harvest limit ⁷ | n/a | n/a | n/a | n/a
541 | 15,226 | n/a | n/a | n/a
542 | 7,613 | n/a | n/a | n/a
543 | 2,538 | n/a | n/a | n/a
Bogoslof District ICA ⁸ | 250 | n/a | n/a | n/a
¹ Pursuant to § 679.20(a)(5)(i)(A), the Bering Sea subarea pollock TAC, after subtracting the CDQ DFA (10 percent) and the ICA (4.95 percent), is allocated as a DFA as follows: Inshore sector—50 percent, catcher/processor sector (CP)—40 percent, and mothership sector—10 percent. In the Bering Sea subarea, 45 percent of the DFA is allocated to the A season (January 20-June 10) and 55 percent of the DFA is allocated to the B season (June 10-November 1). Pursuant to § 679.20(a)(5)(iii)(B)(2)(i) through (iii), the Aleutian Islands subarea pollock TAC, after subtracting first for the CDQ DFA (10 percent) and second for the ICA (2,500 mt), is allocated to the Aleut Corporation for a pollock directed fishery. In the Aleutian Islands subarea, the A season is allocated up to 40 percent of the Aleutian Islands pollock ABC.
² In the Bering Sea subarea, pursuant to § 679.20(a)(5)(i)(C), no more than 28 percent of each sector's annual DFA may be taken from the SCA before noon, April 1.
³ Pursuant to § 679.20(a)(5)(i)(A)(4), 8.5 percent of the DFA allocated to listed CPs shall be available for harvest only by eligible catcher vessels with a CP endorsement delivering to listed CPs, unless there is a CP sector cooperative for the year.
⁴ Pursuant to § 679.20(a)(5)(i)(A)(4)(iii), the AFA unlisted catcher/processors are limited to harvesting not more than 0.5 percent of the catcher/processor sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ Pursuant to § 679.22(a)(7)(B), the Bogoslof District is closed to directed fishing for pollock. The amounts specified are for incidental catch only and are not apportioned by season or sector.
Note: Seasonal or sector apportionments may not total precisely due to rounding.

Table 5—Final 2023 Allocations of Pollock TACs to the Directed Pollock Fisheries and to the CDQ Directed Fishing Allowances (DFA) ¹
[Amounts are in metric tons]
Area and sector | 2023 Allocations | 2023 A season ¹: A season DFA | 2023 A season ¹: SCA harvest limit ² | 2023 B season ¹: B season DFA
Bering Sea subarea TAC ¹ | 1,289,000 | n/a | n/a | n/a
CDQ DFA | 128,900 | 58,005 | 36,092 | 70,895
ICA ¹ | 49,500 | n/a | n/a | n/a
Total Bering Sea non-CDQ DFA | 1,110,600 | 499,770 | 310,968 | 610,830
AFA Inshore | 555,300 | 249,885 | 155,484 | 305,415
AFA Catcher/Processors ³ | 444,240 | 199,908 | 124,387 | 244,332
Catch by CPs | 406,480 | 182,916 | n/a | 223,564
Catch by CVs ³ | 37,760 | 16,992 | n/a | 20,768
Unlisted CP Limit ⁴ | 2,221 | 1,000 | n/a | 1,222
AFA Motherships | 111,060 | 49,977 | 31,097 | 61,083
Excessive Harvesting Limit ⁵ | 194,355 | n/a | n/a | n/a
Excessive Processing Limit ⁶ | 333,180 | n/a | n/a | n/a
Aleutian Islands subarea ABC | 50,825 | n/a | n/a | n/a
Aleutian Islands subarea TAC ¹ | 19,000 | n/a | n/a | n/a
CDQ DFA | 1,900 | 1,900 | n/a |
ICA | 2,500 | 1,250 | n/a | 1,250
Aleut Corporation | 14,600 | 14,600 | n/a |
Area harvest limit ⁷ | n/a | n/a | n/a | n/a
541 | 15,248 | n/a | n/a | n/a
542 | 7,624 | n/a | n/a | n/a
543 | 2,541 | n/a | n/a | n/a
Bogoslof District ICA ⁸ | 250 | n/a | n/a | n/a
¹ Pursuant to § 679.20(a)(5)(i)(A), the Bering Sea subarea pollock TAC, after subtracting the CDQ DFA (10 percent) and the ICA (4.27 percent), is allocated as a DFA as follows: Inshore sector—50 percent, catcher/processor sector (CP)—40 percent, and mothership sector—10 percent. In the Bering Sea subarea, 45 percent of the DFA is allocated to the A season (January 20-June 10) and 55 percent of the DFA is allocated to the B season (June 10-November 1). Pursuant to § 679.20(a)(5)(iii)(B)(2)(i) through (iii), the Aleutian Islands subarea pollock TAC, after subtracting first for the CDQ DFA (10 percent) and second for the ICA (2,500 mt), is allocated to the Aleut Corporation for a pollock directed fishery. In the Aleutian Islands subarea, the A season is allocated up to 40 percent of the Aleutian Islands pollock ABC.
² In the Bering Sea subarea, pursuant to § 679.20(a)(5)(i)(C), no more than 28 percent of each sector's annual DFA may be taken from the SCA before noon, April 1.
³ Pursuant to § 679.20(a)(5)(i)(A)(4), 8.5 percent of the DFA allocated to listed CPs shall be available for harvest only by eligible catcher vessels with a CP endorsement delivering to listed CPs, unless there is a CP sector cooperative for the year.
⁴ Pursuant to § 679.20(a)(5)(i)(A)(4)(iii), the AFA unlisted catcher/processors are limited to harvesting not more than 0.5 percent of the catcher/processor sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ Pursuant to § 679.22(a)(7)(B), the Bogoslof District is closed to directed fishing for pollock. The amounts specified are for incidental catch only and are not apportioned by season or sector.
Note: Seasonal or sector apportionments may not total precisely due to rounding.

Allocation of the Atka Mackerel TACs

Section 679.20(a)(8) allocates the Atka mackerel TACs to the Amendment 80 and BSAI trawl limited access sectors, after subtracting the CDQ reserves, ICAs for the BSAI trawl limited access sector and non-trawl gear sector, and the jig gear allocation (Tables 6 and 7). The percentage of the ITAC for Atka mackerel allocated to the Amendment 80 and BSAI trawl limited access sectors is listed in Table 33 to 50 CFR part 679 and in § 679.91. Pursuant to § 679.20(a)(8)(i), up to 2 percent of the EAI and the BS Atka mackerel TAC may be allocated to vessels using jig gear. The percent of this allocation is recommended annually by the Council based on several criteria, including, among other criteria, the anticipated harvest capacity of the jig gear fleet. The Council recommended, and NMFS approves, a 0.5 percent allocation of the Atka mackerel ITAC in the EAI and BS to the jig gear sector in 2022 and 2023.

Section 679.20(a)(8)(ii)(A) apportions the Atka mackerel TAC into two equal seasonal allowances. Section 679.23(e)(3) sets the first seasonal allowance for directed fishing with trawl gear from January 20 through June 10 (A season), and the second seasonal allowance from June 10 through December 31 (B season). Section 679.23(e)(4)(iii) applies Atka mackerel seasons to CDQ Atka mackerel trawl fishing. The ICAs and jig gear allocations are not apportioned by season.

Sections 679.20(a)(8)(ii)(C)(1)(i) and (ii) limits Atka mackerel catch within waters 0 nmi to 20 nmi of Steller sea lion sites listed in Table 6 to 50 CFR part 679 and located west of 178° W longitude to no more than 60 percent of the annual TACs in Areas 542 and 543, and equally divides the annual TACs between the A and B seasons as defined at § 679.23(e)(3). Section 679.20(a)(8)(ii)(C)(2) requires that the annual TAC in Area 543 will be no more than 65 percent of the ABC in Area 543. Section 679.20(a)(8)(ii)(D) requires that any unharvested Atka mackerel A season allowance that is added to the B season be prohibited from being harvested within waters 0 nmi to 20 nmi of Steller sea lion sites listed in Table 6 to 50 CFR part 679 and located in Areas 541, 542, and 543.

Tables 6 and 7 list these 2022 and 2023 Atka mackerel seasonal and area allowances, and the sector allocations. One Amendment 80 cooperative has formed for the 2022 fishing year. Because all Amendment 80 vessels are part of the sole Amendment 80 cooperative, no allocation to the Amendment 80 limited access sector is required for 2022. The 2023 allocations for Atka mackerel between Amendment 80 cooperatives and the Amendment 80 limited access sector will not be known until eligible participants apply for participation in the program by November 1, 2022.

TABLE 6—Final 2022 Seasonal and Spatial Allowances, Gear Shares, CDQ Reserve, Incidental Catch Allowance, and Amendment 80 Allocations of the BSAI ATKA Mackerel TAC
[Amounts are in metric tons]
Sector ¹ | Season 2 3 4 | 2022 allocation by area: Eastern Aleutian District/Bering Sea | 2022 allocation by area: Central Aleutian District ⁵ | 2022 allocation by area: Western Aleutian District
TAC | n/a | 27,260 | 16,880 | 22,341
CDQ reserve | Total | 2,917 | 1,806 | 2,390
| A | 1,458 | 903 | 1,195
| Critical Habitat | n/a | 542 | 717
| B | 1,458 | 903 | 1,195
| Critical Habitat | n/a | 542 | 717
Non-CDQ TAC | n/a | 24,343 | 15,074 | 19,951
ICA | Total | 800 | 75 | 20
Jig ⁶ | Total | 118 |  |
BSAI trawl limited access | Total | 2,343 | 1,500 |
| A | 1,171 | 750 |
| Critical Habitat | n/a | 450 |
| B | 1,171 | 750 |
| Critical Habitat | n/a | 450 |
Amendment 80 sector | Total | 21,083 | 13,499 | 19,931
| A | 10,541 | 6,749 | 9,965
| Critical Habitat | n/a | 4,050 | 5,979
| B | 10,541 | 6,749 | 9,965
| Critical Habitat | n/a | 4,050 | 5,979
¹ Section 679.20(a)(8)(ii) allocates the Atka mackerel TACs, after subtracting the CDQ reserves, ICAs, and jig gear allocation, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵Section 679.20(a)(8)(ii)(C)(1)(i) limits no more than 60 percent of the annual TACs in Areas 542 and 543 to be caught inside of Steller sea lion critical habitat; section 679.20(a)(8)(ii)(C)(1)(ii) equally divides the annual TACs between the A and B seasons as defined at § 679.23(e)(3); and section 679.20(a)(8)(ii)(C)(2) requires that the TAC in Area 543 shall be no more than 65 percent of ABC in Area 543.
⁶ Sections 679.2 and 679.20(a)(8)(i) require that up to 2 percent of the Eastern Aleutian Islands District and the Bering Sea subarea TAC be allocated to jig gear after subtracting the CDQ reserve and the ICA. NMFS sets the amount of this allocation for 2022 at 0.5 percent. The jig gear allocation is not apportioned by season.
Note: Seasonal or sector apportionments may not total precisely due to rounding.

Table 7—Final 2023 Seasonal and Spatial Allowances, Gear Shares, CDQ Reserve, Incidental Catch Allowance, and Amendment 80 Allocation of the BSAI ATKA Mackerel TAC
[Amounts are in metric tons]
Sector ¹ | Season 2 3 4 | 2023 allocation by area: Eastern Aleutian District/Bering Sea ⁵ | 2023 allocation by area: Central Aleutian District ⁵ | 2023 allocation by area: Western Aleutian District ⁵
TAC | n/a | 25,000 | 15,470 | 20,488
CDQ reserve | Total | 2,675 | 1,655 | 2,192
| A | 1,338 | 828 | 1,096
| Critical Habitat | n/a | 497 | 658
| B | 1,338 | 828 | 1,096
| Critical Habitat | n/a | 497 | 658
non-CDQ TAC | n/a | 22,325 | 13,815 | 18,296
ICA | Total | 800 | 75 | 20
Jig ⁷ | Total | 108 |  |
BSAI trawl limited access | Total | 2,142 | 1,374 |
| A | 1,071 | 687 |
| Critical Habitat | n/a | 412 |
| B | 1,071 | 687 |
| Critical Habitat | n/a | 412 |
Amendment 80 sectors ⁷ | Total | 19,276 | 12,366 | 18,276
| A | 9,638 | 6,183 | 9,138
| Critical Habitat | n/a | 3,710 | 5,483
| B | 9,638 | 6,183 | 9,138
| Critical Habitat | n/a | 3,710 | 5,483
¹ Section 679.20(a)(8)(ii) allocates the Atka mackerel TACs, after subtracting the CDQ reserves, ICAs, and jig gear allocation, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of Steller sea lion critical habitat; section 679.20(a)(8)(ii)(C)(1)(ii) equally divides the annual TACs between the A and B seasons as defined at § 679.23(e)(3); and section 679.20(a)(8)(ii)(C)(2) requires that the TAC in Area 543 shall be no more than 65 percent of ABC in Area 543.
⁶ Sections 679.2 and 679.20(a)(8)(i) requires that up to 2 percent of the Eastern Aleutian Islands District and the Bering Sea subarea TAC be allocated to jig gear after subtracting the CDQ reserve and the ICA. NMFS sets the amount of this allocation for 2023 at 0.5 percent. The jig gear allocation is not apportioned by season.
⁷ The 2023 allocations for Atka mackerel between Amendment 80 cooperatives and the Amendment 80 limited access sector will not be known until eligible participants apply for participation in the program by November 1, 2022.
Note: Seasonal or sector apportionments may not total precisely due to rounding.

Allocation of the Pacific Cod TAC

The Council separated BSAI subarea OFLs, ABCs, and TACs for Pacific cod in 2014 (79 FR 12108, March 4, 2014). Section 679.20(b)(1)(ii)(C) allocates 10.7 percent of the BS TAC and the AI TAC to the CDQ program. After CDQ allocations have been deducted from the respective BS and AI Pacific cod TACs, the remaining BSAI Pacific cod TACs are combined for calculating further BSAI Pacific cod sector allocations. If the non-CDQ Pacific cod TAC is or will be reached in either the BS or the AI subareas, NMFS will prohibit non-CDQ directed fishing for Pacific cod in that subarea as provided in § 679.20(d)(1)(iii).

Sections 679.20(a)(7)(i) and (ii) allocate to the non-CDQ sectors the Pacific cod TAC in the combined BSAI, after subtracting 10.7 percent for the CDQ program, as follows: 1.4 percent to vessels using jig gear; 2.0 percent to hook-and-line or pot CVs less than 60 ft (18.3 m) length overall (LOA); 0.2 percent to hook-and-line CVs greater than or equal to 60 ft (18.3 m) LOA; 48.7 percent to hook-and-line CPs; 8.4 percent to pot CVs greater than or equal to 60 ft (18.3 m) LOA; 1.5 percent to pot CPs; 2.3 percent to AFA trawl CPs; 13.4 percent to Amendment 80 sector; and 22.1 percent to trawl CVs. The ICA for the hook-and-line and pot sectors will be deducted from the aggregate portion of Pacific cod TAC allocated to the hook-and-line and pot sectors. For 2022 and 2023, the Regional Administrator establishes an ICA of 400 mt based on anticipated incidental catch by these sectors in other fisheries.

The ITAC allocation of Pacific cod to the Amendment 80 sector is established in Table 33 to 50 CFR part 679 and § 679.91. One Amendment 80 cooperative has formed for the 2022 fishing year. Because all Amendment 80 vessels are part of the sole Amendment 80 cooperative, no allocation to the Amendment 80 limited access sector is required for 2022. The 2023 allocations for Pacific cod between Amendment 80 cooperatives and the Amendment 80 limited access sector will not be known until eligible participants apply for participation in the program by November 1, 2022.

The sector allocations of Pacific cod are apportioned into seasonal allowances to disperse the Pacific cod fisheries over the fishing year (see §§ 679.20(a)(7)(i)(B), 679.20(a)(7)(iv)(A), and 679.23(e)(5)). In accordance with § 679.20(a)(7)(iv)(B) and (C), any unused portion of a Pacific cod seasonal allowance for any sector, except the jig sector, will become available at the beginning of that sector's next seasonal allowance.

Section 679.20(a)(7)(vii) requires that the Regional Administrator establish an Area 543 Pacific cod harvest limit based on Pacific cod abundance in Area 543 as determined by the annual stock assessment process. Based on the 2021 stock assessment, the Regional Administrator determined for 2022 and 2023 the estimated amount of Pacific cod abundance in Area 543 is 15.7 percent of the total AI abundance. To calculate the Area 543 Pacific cod harvest limit, NMFS first subtracts the State GHL Pacific cod amount from the AI Pacific cod ABC. Then NMFS determines the harvest limit in Area 543 by multiplying the percentage of Pacific cod estimated in Area 543 (15.7 percent) by the remaining ABC for AI Pacific cod. Based on these calculations, the Area 543 harvest limit is 2,166 mt for 2022 and 2023.

On March 21, 2019, the final rule adopting Amendment 113 to the FMP (81 FR 84434, November 23, 2016) was vacated by the U.S. District Court for the District of Columbia (Groundfish Forum v. Ross, No. 16-2495 (D.D.C. March 21, 2019)), and the corresponding regulations implementing Amendment 113 are no longer in effect. Therefore, this final rule is not specifying amounts for the AI Pacific Cod Catcher Vessel Harvest Set-Aside Program (see § 679.20(a)(7)(viii)).

Table 8 and Table 9 list the CDQ and non-CDQ seasonal allowances by gear, as well as the non-CDQ sector allocations, based on the final 2022 and 2023 Pacific cod TACs.

Table 8—Final 2022 Sector Allocations and Seasonal Allowances of the BSAI Pacific Cod TAC
[Amounts are in metric tons]
Sector | Percent | 2022 share of total | 2022 share of sector total | 2022 seasonal apportionment: Season | 2022 seasonal apportionment: Amount
BS TAC | n/a | 136,466 | n/a | n/a | n/a
BS CDQ | n/a | 14,602 | n/a | see § 679.20(a)(7)(i)(B) | n/a
BS non-CDQ TAC | n/a | 121,864 | n/a | n/a | n/a
AI TAC | n/a | 13,796 | n/a | n/a | n/a
AI CDQ | n/a | 1,476 | n/a | see § 679.20(a)(7)(i)(B) | n/a
AI non-CDQ TAC | n/a | 12,320 | n/a | n/a | n/a
Western Aleutian Island Limit | n/a | 2,166 | n/a | n/a | n/a
Total BSAI non-CDQ TAC ¹ | 100 | 134,184 | n/a | n/a | n/a
Total hook-and-line/pot gear | 60.8 | 81,584 | n/a | n/a | n/a
Hook-and-line/pot ICA ² | n/a | 400 | n/a | see § 679.20(a)(7)(ii)(B) | n/a
Hook-and-line/pot sub-total | n/a | 81,184 | n/a | n/a | n/a
Hook-and-line catcher/processor | 48.7 | n/a | 65,027 | Jan 1-Jun 10 Jun 10-Dec 31 | 33,164 31,863
Hook-and-line catcher vessel ≥60 ft LOA | 0.2 | n/a | 267 | Jan 1-Jun 10 Jun 10-Dec 31 | 136 131
Pot catcher/processor | 1.5 | n/a | 2,003 | Jan 1-Jun 10 Sept 1-Dec 31 | 1,021 981
Pot catcher vessel ≥60 ft LOA | 8.4 | n/a | 11,216 | Jan 1-Jun 10 Sept 1-Dec 31 | 5,720 5,496
Catcher vessel <60 ft LOA using hook-and-line or pot gear | 2.0 | n/a | 2,671 | n/a | n/a
Trawl catcher vessel | 22.1 | 29,655 | n/a | Jan 20-Apr 1 Apr 1-Jun 10 Jun 10-Nov 1 | 21,944 3,262 4,448
AFA trawl catcher/processor | 2.3 | 3,086 | n/a | Jan 20-Apr 1 Apr 1-Jun 10 Jun 10-Nov 1 | 2,315 772
Amendment 80 | 13.4 | 17,981 | n/a | Jan 20-Apr 1 Apr 1-Jun 10 Jun 10-Dec 31 | 13,485 4,495
Jig | 1.4 | 1,879 | n/a | Jan 1-Apr 30 Apr 30-Aug 31 Aug 31-Dec 31 | 1,127 376 376
¹ The sector allocations and seasonal allowances for BSAI Pacific cod TAC are based on the sum of the BS and AI Pacific cod TACs, after the subtraction of the reserves for the CDQ program. If the TAC for Pacific cod in either the AI or BS is or will be reached, then directed fishing for non-CDQ Pacific cod in that subarea will be prohibited, even if a BSAI allowance remains (§ 679.20(d)(1)(iii)).
² The ICA for the hook-and-line and pot sectors will be deducted from the aggregate portion of Pacific cod TAC allocated to the hook-and-line and pot sectors. The Regional Administrator approves an ICA of 400 mt for 2022 based on anticipated incidental catch by these sectors in other fisheries.
Note: Seasonal or sector apportionments may not total precisely due to rounding.

Table 9—Final 2023 Sector Allocations and Seasonal Allowances of the BSAI Pacific Cod TAC
[Amounts are in metric tons]
Sector | Percent | 2023 share total | 2023 share of sector total | 2023 seasonal apportionment: Season | 2023 seasonal apportionment: Amount
BS TAC | n/a | 133,459 | n/a | n/a | n/a
BS CDQ | n/a | 14,280 | n/a | see § 679.20(a)(7)(i)(B) | n/a
BS non-CDQ TAC | n/a | 119,179 | n/a | n/a | n/a
AI TAC | n/a | 13,796 | n/a | n/a | n/a
AI CDQ | n/a | 1,476 | n/a | see § 679.20(a)(7)(i)(B) | n/a
AI non-CDQ TAC | n/a | 12,320 | n/a | n/a | n/a
Western Aleutian Island Limit | n/a | 2,166 | n/a | n/a | n/a
Total BSAI non-CDQ TAC ¹ | n/a | 131,499 | n/a | n/a | n/a
Total hook-and-line/pot gear | 60.8 | 79,951 | n/a | n/a | n/a
Hook-and-line/pot ICA ² | n/a | 400 | n/a | see § 679.20(a)(7)(ii)(B) | n/a
Hook-and-line/pot sub-total | n/a | 79,551 | n/a | n/a | n/a
Hook-and-line catcher/processor | 48.7 | n/a | 63,719 | Jan 1-Jun 10 Jun 10-Dec 31 | 32,497 31,223
Hook-and-line catcher vessel ≥60 ft LOA | 0.2 | n/a | 262 | Jan 1-Jun 10 Jun 10-Dec 31 | 133 128
Pot catcher/processor | 1.5 | n/a | 1,963 | Jan 1-Jun 10 Sept 1-Dec 31 | 1,001 962
Pot catcher vessel ≥60 ft LOA | 8.4 | n/a | 10,991 | Jan 1-Jun 10 Sept 1-Dec 31 | 5,605 5,385
Catcher vessel <60 ft LOA using hook-and-line or pot gear | 2.0 | n/a | 2,617 | n/a | n/a
Trawl catcher vessel | 22.1 | 29,061 | n/a | Jan 20-Apr 1 Apr 1-Jun 10 Jun 10-Nov 1 | 21,505 3,197 4,359
AFA trawl catcher/processor | 2.3 | 3,024 | n/a | Jan 20-Apr 1 Apr 1-Jun 10 Jun 10-Nov 1 | 2,268 756
Amendment 80 | 13.4 | 17,621 | n/a | Jan 20-Apr 1 Apr 1-Jun 10 Jun 10-Dec 31 | 13,216 4,405
Jig | 1.4 | 1,841 | n/a | Jan 1-Apr 30 Apr 30-Aug 31 Aug 31-Dec 31 | 1,105 368 368
¹ The sector allocations and seasonal allowances for BSAI Pacific cod TAC are based on the sum of the BS and AI Pacific cod TACs, after the subtraction of the reserves for the CDQ program. If the TAC for Pacific cod in either the AI or BS is or will be reached, then directed fishing for non-CDQ Pacific cod in that subarea will be prohibited, even if a BSAI allowance remains (§ 679.20(d)(1)(iii)).
² The ICA for the hook-and-line and pot sectors will be deducted from the aggregate portion of Pacific cod TAC allocated to the hook-and-line and pot sectors. The Regional Administrator approves an ICA of 400 mt for 2023 based on anticipated incidental catch by these sectors in other fisheries.
Note: Seasonal or sector apportionments may not total precisely due to rounding.

Sablefish Gear Allocation

Sections 679.20(a)(4)(iii) and (iv) require allocation of the sablefish TAC for the BS and AI subareas between the trawl gear and hook-and-line or pot gear sectors. Gear allocations of the sablefish TAC for the BS are 50 percent for trawl gear and 50 percent for hook-and-line or pot gear. Gear allocations of the TAC for the AI are 25 percent for trawl gear and 75 percent for hook-and-line or pot gear. Section 679.20(b)(1)(ii)(B) requires that NMFS apportions 20 percent of the hook-and-line or pot gear allocation of sablefish TAC to the CDQ reserve for each subarea. Also, § 679.20(b)(1)(ii)(D)(1) requires that in the BS and AI 7.5 percent of the trawl gear allocation of sablefish TAC from the non-specified reserve, established under § 679.20(b)(1)(i), be assigned to the CDQ reserve.

The Council recommended that only trawl sablefish TAC be established biennially. The harvest specifications for the hook-and-line gear or pot gear sablefish Individual Fishing Quota (IFQ) fisheries are limited to the 2022 fishing year to ensure those fisheries are conducted concurrently with the halibut IFQ fishery. Concurrent sablefish and halibut IFQ fisheries reduce the potential for discards of halibut and sablefish in those fisheries. The sablefish IFQ fisheries remain closed at the beginning of each fishing year until the final harvest specifications for the sablefish IFQ fisheries are in effect. Table 10 lists the 2022 and 2023 gear allocations of the sablefish TAC and CDQ reserve amounts.

Table 10—Final 2022 and 2023 Gear Shares and CDQ Reserve of BSAI Sablefish TACs
[Amounts are in metric tons]
Subarea and gear | Percent of TAC | 2022 Share of TAC | 2022 ITAC | 2022 CDQ reserve | 2023 Share of TAC | 2023 ITAC | 2023 CDQ reserve
Bering Sea:
Trawl ¹ | 50 | 2,632 | 2,237 | 197 | 3,265 | 2,775 | 245
Hook-and-line/pot gear ² | 50 | 2,632 | 2,106 | 526 | n/a | n/a | n/a
Total | 100 | 5,264 | 4,343 | 724 | 3,265 | 2,775 | 245
Aleutian Islands:
Trawl ¹ | 25 | 1,616 | 1,373 | 121 | 1,947 | 1,655 | 146
Hook-and-line/pot gear ² | 75 | 4,847 | 3,878 | 969 | n/a | n/a | n/a
Total | 100 | 6,463 | 5,251 | 1,091 | 1,947 | 1,655 | 146
¹ For the sablefish TAC allocated to vessels using trawl gear, 15 percent of TAC is apportioned to the non-specified reserve (§ 679.20(b)(1)(i)). The ITAC for vessels using trawl gear is the remainder of the TAC after subtracting this reserve. In the BS and AI, 7.5 percent of the trawl gear allocation of the TAC is assigned from the non-specified reserve to the CDQ reserve (§ 679.20(b)(1)(ii)(D)(1)).
² For the portion of the sablefish TAC allocated to vessels using hook-and-line or pot gear, 20 percent of the allocated TAC for the BS and AI is reserved for use by CDQ participants (§ 679.20(b)(1)(ii)(B)). The ITAC for vessels using hook-and-line or pot gear is the remainder of the TAC after subtracting the CDQ reserve for each subarea. The Council recommended that specifications for the hook-and-line or pot gear sablefish IFQ fisheries be limited to one year.
Note: Seasonal or sector apportionments may not total precisely due to rounding.

Allocation of the AI Pacific Ocean Perch, and BSAI Flathead Sole, Rock Sole, and Yellowfin Sole TACs

Sections 679.20(a)(10)(i) and (ii) require that NMFS allocate AI Pacific ocean perch, and BSAI flathead sole, rock sole, and yellowfin sole ITACs between the Amendment 80 sector and the BSAI trawl limited access sector, after subtracting 10.7 percent for the CDQ reserves and ICAs for the BSAI trawl limited access sector and vessels using non-trawl gear. The allocations of the ITACs for AI Pacific ocean perch, and BSAI flathead sole, rock sole, and yellowfin sole to the Amendment 80 sector are established in accordance with Tables 33 and 34 to 50 CFR part 679 and § 679.91.

One Amendment 80 cooperative has formed for the 2022 fishing year. Because all Amendment 80 vessels are part of the sole Amendment 80 cooperative, no allocation to the Amendment 80 limited access sector is required for 2022. The 2023 allocations for Amendment 80 species between Amendment 80 cooperatives and the Amendment 80 limited access sector will not be known until eligible participants apply for participation in the program by November 1, 2022. Tables 11 and 12 list the 2022 and 2023 allocations of the AI Pacific ocean perch, and BSAI flathead sole, rock sole, and yellowfin sole TACs.

Table 11—Final 2022 Community Development Quota (CDQ) Reserves, Incidental Catch Amounts (ICAS), and Amendment 80 Allocations of the Aleutian Islands Pacific Ocean Perch, and BSAI Flathead Sole, Rock Sole, and Yellowfin Sole TACs
[Amounts are in metric tons]
Sector | Pacific ocean perch: Eastern Aleutian District | Pacific ocean perch: Central Aleutian District | Pacific ocean perch: Western Aleutian District | Flathead sole: BSAI | Rock sole: BSAI | Yellowfin sole: BSAI
TAC | 8,083 | 5,950 | 11,000 | 35,500 | 66,000 | 250,000
CDQ | 865 | 637 | 1,177 | 3,799 | 7,062 | 26,750
ICA | 100 | 60 | 10 | 3,000 | 6,000 | 4,000
BSAI trawl limited access | 712 | 525 | 196 |  |  | 52,642
Amendment 80 | 6,406 | 4,728 | 9,617 | 28,702 | 52,938 | 166,608
Note: Sector apportionments may not total precisely due to rounding.

Table 12—Final 2023 Community Development Quota (CDQ) Reserves, Incidental Catch Amounts (ICAS), and Amendment 80 Allocations of the Aleutian Islands Pacific Ocean Perch, and BSAI Flathead Sole, Rock Sole, and Yellowfin Sole TACs
[Amounts are in metric tons]
Sector | Pacific ocean perch: Eastern Aleutian District | Pacific ocean perch: Central Aleutian District | Pacific ocean perch: Western Aleutian District | Flathead sole: BSAI | Rock sole: BSAI | Yellowfin sole: BSAI
TAC | 7,774 | 5,722 | 10,500 | 25,500 | 55,000 | 230,000
CDQ | 832 | 612 | 1,124 | 2,729 | 5,885 | 24,610
ICA | 100 | 60 | 10 | 3,000 | 6,000 | 4,000
BSAI trawl limited access | 684 | 505 | 187 |  |  | 45,498
Amendment 80 ¹ | 6,158 | 4,545 | 9,179 | 19,772 | 43,115 | 155,892
¹ The 2023 allocations for Amendment 80 species between Amendment 80 cooperatives and the Amendment 80 limited access sector will not be known until eligible participants apply for participation in the program by November 1, 2022.
Note: Sector apportionments may not total precisely due to rounding.

Section 679.2 defines the ABC surplus for flathead sole, rock sole, and yellowfin sole as the difference between the annual ABC and TAC for each species. Section 679.20(b)(1)(iii) establishes ABC reserves for flathead sole, rock sole, and yellowfin sole. The ABC surpluses and the ABC reserves are necessary to mitigate the operational variability, environmental conditions, and economic factors that may constrain the CDQ groups and the Amendment 80 cooperatives from fully harvesting their allocations and to improve the likelihood of achieving and maintaining, on a continuing basis, the optimum yield in the BSAI groundfish fisheries. NMFS, after consultation with the Council, may set the ABC reserve at or below the ABC surplus for each species, thus maintaining the TAC below ABC limits. An amount equal to 10.7 percent of the ABC reserves will be allocated as CDQ ABC reserves for flathead sole, rock sole, and yellowfin sole. Section 679.31(b)(4) establishes the annual allocations of CDQ ABC reserves among the CDQ groups. The Amendment 80 ABC reserves are the ABC reserves minus the CDQ ABC reserves. Section 679.91(i)(2) establishes each Amendment 80 cooperative ABC reserve to be the ratio of each cooperatives' quota share units and the total Amendment 80 quota share units, multiplied by the Amendment 80 ABC reserve for each respective species. Table 13 lists the 2022 and 2023 ABC surplus and ABC reserves for BSAI flathead sole, rock sole, and yellowfin sole.

Table 13—Final 2022 and 2023 ABC Surplus, ABC Reserves, Community Development Quota (CDQ) ABC Reserves, and Amendment 80 ABC Reserves in the BSAI for Flathead Sole, Rock Sole, and Yellowfin Sole
[Amounts are in metric tons]
Sector | 2022 Flathead sole | 2022 Rock sole | 2022 Yellowfin sole | 2023 ¹ Flathead sole | 2023 ¹ Rock sole | 2023 ¹ Yellowfin sole
ABC | 64,288 | 206,896 | 354,014 | 65,988 | 271,199 | 358,675
TAC | 35,500 | 66,000 | 250,000 | 25,500 | 55,000 | 230,000
ABC surplus | 28,788 | 140,896 | 104,014 | 40,488 | 216,199 | 128,675
ABC reserve | 28,788 | 140,896 | 104,014 | 40,488 | 216,199 | 128,675
CDQ ABC reserve | 3,080 | 15,076 | 11,129 | 4,332 | 23,133 | 13,768
Amendment 80 ABC reserve | 25,708 | 125,820 | 92,885 | 36,156 | 193,066 | 114,907
¹ The 2023 allocations for Amendment 80 species between Amendment 80 cooperatives and the Amendment 80 limited access sector will not be known until eligible participants apply for participation in the program by November 1, 2022.

PSC Limits for Halibut, Salmon, Crab, and Herring

Section 679.21, at paragraphs (b), (e), (f), and (g), sets forth the BSAI PSC limits. Pursuant to § 679.21(b)(1), the annual BSAI halibut PSC limits total 3,515 mt. Section 679.21(b)(1) allocates 315 mt of the halibut PSC limit as the PSQ reserve for use by the groundfish CDQ program, 1,745 mt of the halibut PSC limit for the Amendment 80 sector, 745 mt of the halibut PSC limit for the BSAI trawl limited access sector, and 710 mt of the halibut PSC limit for the BSAI non-trawl sector.

Section 679.21, at (b)(1)(iii)(A) and (B), authorizes apportionment of the BSAI non-trawl halibut PSC limit into PSC allowances among six fishery categories in Table 17, and § 679.21, at (b)(1)(ii)(A) and (B), (e)(3)(i)(B), and (e)(3)(iv), requires apportionment of the trawl PSC limits in Tables 15 and 16 into PSC allowances among seven fishery categories.

Pursuant to Section 3.6 of the FMP, the Council recommends, and NMFS agrees, that certain specified non-trawl fisheries be exempt from the halibut PSC limit. As in past years, after consultation with the Council, NMFS exempts the pot gear fishery, the jig gear fishery, and the sablefish IFQ hook-and-line gear fishery categories from halibut bycatch restrictions for the following reasons: (1) The pot gear fisheries have low halibut bycatch mortality; (2) NMFS estimates halibut mortality for the jig gear fleet to be negligible because of the small size of the fishery and the selectivity of the gear; and (3) the sablefish and halibut IFQ fisheries have low halibut bycatch mortality because the IFQ program requires that legal-size halibut be retained by vessels using fixed gear if a halibut IFQ permit holder or a hired master is aboard and is holding unused halibut IFQ for that vessel category and the IFQ regulatory area in which the vessel is operating (§ 679.7(f)(11)).

The 2021 total groundfish catch for the pot gear fishery in the BSAI was 35,409 mt, with an associated halibut bycatch mortality of 7 mt. The 2021 jig gear fishery harvested about 20 mt of groundfish. Most vessels in the jig gear fleet are exempt from observer coverage requirements. As a result, observer data are not available on halibut bycatch in the jig gear fishery. As mentioned above, NMFS estimates a negligible amount of halibut bycatch mortality because of the selective nature of jig gear and the low mortality rate of halibut caught with jig gear and released.

Under § 679.21(f)(2), NMFS annually allocates portions of either 33,318, 45,000, 47,591, or 60,000 Chinook salmon PSC limits among the AFA sectors, depending on past bycatch performance, on whether Chinook salmon bycatch incentive plan agreements (IPAs) are formed and approved by NMFS, and on whether NMFS determines it is a low Chinook salmon abundance year. NMFS will determine that it is a low Chinook salmon abundance year when abundance of Chinook salmon in western Alaska is less than or equal to 250,000 Chinook salmon. The State of Alaska provides to NMFS an estimate of Chinook salmon abundance using the 3-System Index for western Alaska based on the Kuskokwim, Unalakleet, and Upper Yukon aggregate stock grouping.

If an AFA sector participates in an approved IPA and has not exceeded its performance standard under § 679.21(f)(6), and if it is not a low Chinook salmon abundance year, then NMFS will allocate a portion of the 60,000 Chinook salmon PSC limit to that sector as specified in § 679.21(f)(3)(iii)(A). If no IPA is approved, or if the sector has exceeded its performance standard under § 679.21(f)(6), and if it is not a low abundance year, then NMFS will allocate a portion of the 47,591 Chinook salmon PSC limit to that sector as specified in § 679.21(f)(3)(iii)(C). If an AFA sector participates in an approved IPA and has not exceeded its performance standard under § 679.21(f)(6), in a low abundance year, then NMFS will allocate a portion of the 45,000 Chinook salmon PSC limit to that sector as specified in § 679.21(f)(3)(iii)(B). If no IPA is approved, or if the sector has exceeded its performance standard under § 679.21(f)(6), and if in a low abundance year, then NMFS will allocate a portion of the 33,318 Chinook salmon PSC limit to that sector as specified in § 679.21(f)(3)(iii)(D).

NMFS has determined that 2021 was a low Chinook salmon abundance year, based on the State's estimate that Chinook salmon abundance in western Alaska is less than 250,000 Chinook salmon. Therefore, in 2022, the Chinook salmon PSC limit is 45,000 Chinook salmon, allocated to each sector as specified in § 679.21(f)(3)(iii)(B). The AFA sector Chinook salmon PSC limits are also seasonally apportioned with 70 percent for the A season pollock fishery, and 30 percent for the B season pollock fishery (§§ 679.21(f)(3)(i) and 679.23(e)(2)). In 2022, the Chinook salmon bycatch performance standard under § 679.21(f)(6) is 33,318 Chinook salmon, allocated to each sector as specified in § 679.21(f)(3)(iii)(D).

NMFS publishes the approved IPAs, allocations, and reports at https://alaskafisheries.noaa.gov/sustainablefisheries/bycatch/default.htm.

Section 679.21(g)(2)(i) specifies 700 fish as the 2022 and 2023 Chinook salmon PSC limit for the AI pollock fishery. Section 679.21(g)(2)(ii) allocates 7.5 percent, or 53 Chinook salmon, as the AI PSQ reserve for the CDQ program, and allocates the remaining 647 Chinook salmon to the non-CDQ fisheries.

Section 679.21(f)(14)(i) specifies 42,000 fish as the 2022 and 2023 non-Chinook salmon PSC limit for vessels using trawl gear from August 15 through October 14 in the Catcher Vessel Operational Area (CVOA). Section 679.21(f)(14)(ii) allocates 10.7 percent, or 4,494 non-Chinook salmon, in the CVOA as the PSQ reserve for the CDQ program, and allocates the remaining 37,506 non-Chinook salmon in the CVOA to the non-CDQ fisheries.

PSC limits for crab and herring are specified annually based on abundance and spawning biomass. Section 679.21(e)(3)(i)(A)(1) allocates 10.7 percent from each trawl gear PSC limit specified for crab as a PSQ reserve for use by the groundfish CDQ program.

Based on the most recent (2021) survey data, the red king crab mature female abundance is estimated at 6.432 million red king crabs, and the effective spawning biomass is estimated at 25.120 million lbs (9,463 mt). Based on the criteria set out at § 679.21(e)(1)(i), the 2022 and 2023 PSC limit of red king crab in Zone 1 for trawl gear is 32,000 animals. This limit derives from the mature female abundance estimate below 8.4 million mature red king crab.

Section 679.21(e)(3)(ii)(B)(2) establishes criteria under which NMFS must specify an annual red king crab bycatch limit for the Red King Crab Savings Subarea (RKCSS) if the State has established a GHL fishery for red king crab in the Bristol Bay area in the previous year. The State's Department of Fish and Game (ADF&G) and NMFS have reviewed the final 2021 NMFS trawl survey data for the Bristol Bay red king crab stock. The stock is estimated to be below the regulatory threshold for opening a fishery. Therefore, the State did not establish a GHL for the Bristol Bay red king crab fishery, and the fishery will remain closed for the 2021/2022 crab season. For this reason, NMFS closed directed fishing for vessels using non-pelagic trawl gear in the RKCSS for 2022 (87 FR 2558, January 18, 2022). And, NMFS and the Council will not specify an amount of the red king crab bycatch limit, annually established under § 679.21(e)(1)(i), for the RKCSS. NMFS and the Council will assess the RKCSS closure for 2023 based on whether the State's ADF&G establishes a GHL for the 2022/2023 red king crab fishery in the Bristol Bay area.

Based on the most recent (2021) survey data, Tanner crab (Chionoecetes bairdi) abundance is estimated at 385 million animals. Pursuant to criteria set out at § 679.21(e)(1)(ii), the calculated 2022 and 2023 C. bairdi crab PSC limit for trawl gear is 830,000 animals in Zone 1, and 2,520,000 animals in Zone 2. The limit in Zone 1 is based on the abundance of C. bairdi estimated at 385 million animals, which is greater than 270 million animals but less than 400 million animals. The limit in Zone 2 is based on the abundance of C. bairdi estimated at 385 million animals, which is greater than 290 million animals but less than 400 million animals.

Pursuant to § 679.21(e)(1)(iii), the PSC limit for trawl gear for snow crab (Chionoecetes opilio) is based on total abundance as indicated by the NMFS annual bottom trawl survey. The C. opilio crab PSC limit in the C. opilio bycatch limitation zone (COBLZ) is set at 0.1133 percent of the BS abundance index minus 150,000 crabs, unless the minimum or maximum PSC limit applies. Based on the most recent (2021) survey estimate of 1.42 billion animals, the calculated C. opilio crab PSC limit is 1,608,860 animals. Because 0.1133 percent multiplied by the total abundance is less than 4.5 million, the minimum PSC limit applies and the PSC limit will be 4.350 million animals.

Pursuant to § 679.21(e)(1)(v), the PSC limit of Pacific herring caught while conducting any trawl operation for BSAI groundfish is 1 percent of the annual eastern BS herring biomass. The best estimate of 2022 and 2023 herring biomass is 381,876 mt. This amount was developed by the Alaska Department of Fish and Game based on biomass for spawning aggregations. Therefore, the herring PSC limit for 2022 and 2023 is 3,819 mt for all trawl gear as listed in Tables 14 and 15.

Section 679.21(e)(3)(i)(A) requires that PSQ reserves be subtracted from the total trawl gear crab PSC limits. The crab and halibut PSC limits apportioned to the Amendment 80 and BSAI trawl limited access sectors are listed in Table 35 to 50 CFR part 679. The resulting 2022 and 2023 allocations of PSC limit to CDQ PSQ reserves, the Amendment 80 sector, and the BSAI trawl limited access sector are listed in Table 14. Pursuant to §§ 679.21(b)(1)(i), 679.21(e)(3)(vi), and 679.91(d) through (f), crab and halibut trawl PSC limits assigned to the Amendment 80 sector are then further allocated to Amendment 80 cooperatives as cooperative quota. Crab and halibut PSC cooperative quota assigned to Amendment 80 cooperatives is not allocated to specific fishery categories. In 2022, there are no vessels in the Amendment 80 limited access sector and there is one Amendment 80 cooperative. The 2023 PSC allocations between Amendment 80 cooperatives and the Amendment 80 limited access sector will not be known until eligible participants apply for participation in the program by November 1, 2022. Section 679.21(e)(3)(i)(B) requires that NMFS, after consultation with the Council, apportion each trawl PSC limit for crab and herring not assigned to CDQ PSQ reserves or Amendment 80 cooperatives into PSC bycatch allowances for seven specified fishery categories in § 679.21(e)(3)(iv).

Sections 679.21(b)(2) and (e)(5) authorize NMFS, after consulting with the Council, to establish seasonal apportionments of halibut and crab PSC amounts for the BSAI trawl limited access and non-trawl sectors in order to maximize the ability of the fleet to harvest the available groundfish TAC and to minimize bycatch. The factors to be considered are (1) seasonal distribution of prohibited species, (2) seasonal distribution of target groundfish species relative to prohibited species distribution, (3) PSC bycatch needs on a seasonal basis relevant to prohibited species biomass and expected catches of target groundfish species, (4) expected variations in bycatch rates throughout the year, (5) expected changes in directed groundfish fishing seasons, (6) expected start of fishing effort, and (7) economic effects of establishing seasonal prohibited species apportionments on segments of the target groundfish industry. Based on this criteria, the Council recommended and NMFS approves the seasonal PSC apportionments in Tables 16 and 17 to maximize harvest among gear types, fisheries, and seasons while minimizing bycatch of PSC.

Table 14—Final 2022 and 2023 Apportionment of Prohibited Species Catch Allowances to Non-Trawl Gear, The CDQ Program, Amendment 80, and the BSAI Trawl Limited Access Sectors
PSC species and area and zone ¹ | Total PSC | Non-trawl PSC | CDQ PSQ reserve ² | Trawl PSC remaining after CDQ PSQ | Amendment 80 sector ³ | BSAI trawl limited access sector | BSAI PSC limits not allocated ³
Halibut mortality (mt) BSAI | 3,515 | 710 | 315 | n/a | 1,745 | 745 |
Herring (mt) BSAI | 3,819 | n/a | n/a | n/a | n/a | n/a |
Red king crab (animals) Zone 1 | 32,000 | n/a | 3,424 | 28,576 | 14,282 | 8,739 | 5,555
C. opilio (animals) COBLZ | 4,350,000 | n/a | 465,450 | 3,884,550 | 1,909,256 | 1,248,494 | 726,799
C. bairdi crab (animals) Zone 1 | 830,000 | n/a | 88,810 | 741,190 | 312,115 | 348,285 | 80,790
C. bairdi crab (animals) Zone 2 | 2,520,000 | n/a | 269,640 | 2,250,360 | 532,660 | 1,053,394 | 664,306
¹ Refer to § 679.2 for definitions of areas and zones.
² The PSQ reserve for crab species is 10.7 percent of each crab PSC limit.
³ The Amendment 80 program reduced apportionment of the trawl PSC limits for crab below the total PSC limit. These reductions are not apportioned to other gear types or sectors.

Table 15—Final 2022 and 2023 Herring and Red King Crab Savings Subarea Prohibited Species Catch Allowances for All Trawl Sectors
Fishery categories | Herring (mt) BSAI | Red king crab (animals) zone 1
Yellowfin sole | 222 | n/a
Rock sole/flathead sole/Alaska plaice/other flatfish ¹ | 110 | n/a
Greenland turbot/arrowtooth flounder/Kamchatka flounder/sablefish | 11 | n/a
Rockfish | 11 | n/a
Pacific cod | 20 | n/a
Midwater trawl pollock | 3,400 | n/a
Pollock/Atka mackerel/other species ² ³ | 45 | n/a
2022 Red king crab savings subarea non-pelagic trawl gear ⁴ | n/a |
2023 Red king crab savings subarea non-pelagic trawl gear ⁵ | n/a | 8,000
Total trawl PSC | 3,819 | 32,000
¹ “Other flatfish” for PSC monitoring includes all flatfish species, except for halibut (a prohibited species), Alaska plaice, arrowtooth flounder, flathead sole, Greenland turbot, Kamchatka flounder, rock sole, and yellowfin sole.
² Pollock other than midwater trawl pollock, Atka mackerel, and “other species” fishery category.
³ “Other species” for PSC monitoring includes skates, sharks, and octopuses.
⁴ Section 679.21(e)(3)(ii)(B) establishes criteria under which an annual red king crab bycatch limit must be specified for the Red King Crab Savings Subarea (RKCSS) if the State has established a GHL fishery for red king crab in the Bristol Bay area in the previous year. Based on the final 2021 NMFS trawl survey data for the Bristol Bay red king crab stock, the State of Alaska closed the Bristol Bay red king crab fishery for the 2021/2022 crab season. NMFS and the Council will not specify the red king crab bycatch limit for the RKCSS in 2022, and pursuant to § 679.21(e)(3)(ii)(B)(1) directed fishing for groundfish is prohibited for vessels using non-pelagic trawl gear in the RKCSS for 2022.
⁵ If the Bristol Bay red king crab fishery remains closed in the 2022/2023 crab season, the RKCSS specification will be zero. If the Bristol Bay red king crab fishery is open in the 2022/2023 crab season, NMFS, after consultation with the Council, will specify an annual red king crab bycatch limit for the RKCSS, which is limited by regulation to up to 25 percent of the red king crab PSC allowance (§ 679.21(e)(3)(ii)(B)(2)).
Note: Species allowances may not total precisely due to rounding.

Table 16—Final 2022 and 2023 Prohibited Species Bycatch Allowances for the BSAI Trawl Limited Access Sector
BSAI trawl limited access fisheries | Prohibited species and area and zone ¹: Halibut mortality (mt) BSAI | Prohibited species and area and zone ¹: Red king crab (animals) zone 1 | Prohibited species and area and zone ¹: C. opilio (animals) COBLZ | Prohibited species and area and zone ¹: C. bairdi (animals): Zone 1 | Prohibited species and area and zone ¹: C. bairdi (animals): Zone 2
Yellowfin sole | 265 | 7,700 | 1,192,179 | 293,234 | 1,005,879
Rock sole/flathead sole/Alaska plaice/other flatfish ² |  |  |  |  |
Greenland turbot/arrowtooth flounder/Kamchatka flounder/sablefish |  |  |  |  |
Rockfish April 15-December 31 | 5 |  | 1,006 |  | 849
Pacific cod | 300 | 975 | 50,281 | 50,816 | 42,424
Pollock/Atka mackerel/other species ³ | 175 | 65 | 5,028 | 4,235 | 4,243
Total BSAI trawl limited access PSC | 745 | 8,739 | 1,248,494 | 348,285 | 1,053,394
¹ Refer to § 679.2 for definitions of areas and zones.
² “Other flatfish” for PSC monitoring includes all flatfish species, except for halibut (a prohibited species), Alaska plaice, arrowtooth flounder, flathead sole, Greenland turbot, Kamchatka flounder, rock sole, and yellowfin sole.
³ “Other species” for PSC monitoring includes skates, sharks, and octopuses.
Note: Seasonal or sector allowances may not total precisely due to rounding.

Table 17—Final 2022 and 2023 Halibut Prohibited Species Bycatch Allowances for Non-Trawl Fisheries Halibut Mortality (mt) BSAI
Non-trawl fisheries | Seasons | Catcher/ processor | Catcher vessel | All non-trawl
Pacific cod | Total Pacific cod | 648 | 13 | 661
| January 1-June 10 | 388 | 9 | n/a
| June 10-August 15 | 162 | 2 | n/a
| August 15-December 31 | 98 | 2 | n/a
Non-Pacific cod non-trawl—Total | May 1-December 31 | n/a | n/a | 49
Groundfish pot and jig | n/a | n/a | n/a | Exempt
Sablefish hook-and-line | n/a | n/a | n/a | Exempt
Total for all non-trawl PSC | n/a | n/a | n/a | 710
Note: Seasonal or sector allowances may not total precisely due to rounding.

Estimates of Halibut Biomass and Stock Condition

The International Pacific Halibut Commission (IPHC) annually assesses the abundance and potential yield of the Pacific halibut stock using all available data from the commercial and sport fisheries, other removals, and scientific surveys. Additional information on the Pacific halibut stock assessment may be found in the IPHC's 2021 Pacific halibut stock assessment (December 2021), available on the IPHC website at www.iphc.int. The IPHC considered the 2021 Pacific halibut stock assessment at its January 2022 annual meeting when it set the 2022 commercial halibut fishery catch limits.

Halibut Discard Mortality Rates

To monitor halibut bycatch mortality allowances and apportionments, the Regional Administrator uses observed halibut incidental catch rates, halibut discard mortality rates (DMRs), and estimates of groundfish catch to project when a fishery's halibut bycatch mortality allowance or seasonal apportionment is reached. Halibut incidental catch rates are based on observers' estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best scientific information available in conjunction with the annual BSAI stock assessment process. The DMR methodology and findings are included as an appendix to the annual BSAI groundfish SAFE report.

In 2016, the DMR estimation methodology underwent revisions per the Council's directive. An interagency halibut working group (IPHC, Council, and NMFS staff) developed improved estimation methods that have undergone review by the Plan Team, SSC, and the Council. A summary of the revised methodology is included in the BSAI proposed 2017 and 2018 harvest specifications (81 FR 87863, December 6, 2016), and the comprehensive discussion of the working group's statistical methodology is available from the Council (see ADDRESSES). The DMR working group's revised methodology is intended to improve estimation accuracy, transparency, and transferability used for calculating DMRs. The working group will continue to consider improvements to the methodology used to calculate halibut mortality, including potential changes to the reference period (the period of data used for calculating the DMRs). Future DMRs may change based on additional years of observer sampling, which could provide more recent and accurate data and which could improve the accuracy of estimation and progress on methodology. The methodology will continue to ensure that NMFS is using DMRs that more accurately reflect halibut mortality, which will inform the different sectors of their estimated halibut mortality and allow specific sectors to respond with methods that could reduce mortality and, eventually, the DMR for that sector.

At the December 2021 meeting, the SSC, AP, and the Council concurred with the revised DMR estimation methodology, and NMFS adopts for 2022 and 2023 the DMRs calculated under the revised methodology, which uses an updated 2-year reference period. The final 2022 and 2023 DMRs in this rule are unchanged from the DMRs in the proposed 2022 and 2023 harvest specifications (86 FR 68608, December 3, 2021). Table 18 lists these final 2022 and 2023 DMRs.

Table 18—2022 and 2023 Pacific Halibut Discard Mortality Rates (DMR) for the BSAI
Gear | Sector | Halibut discard mortality rate (percent)
Pelagic trawl | All | 100
Non-pelagic trawl | Mothership and catcher/processor | 84
Non-pelagic trawl | Catcher vessel | 62
Hook-and-line | Catcher/processor | 10
Hook-and-line | Catcher vessel | 10
Pot | All | 33

Directed Fishing Closures

In accordance with § 679.20(d)(1)(i), the Regional Administrator may establish a DFA for a species or species group if the Regional Administrator determines that any allocation or apportionment of a target species has been or will be reached. If the Regional Administrator establishes a DFA, and that allowance is or will be reached before the end of the fishing year, NMFS will prohibit directed fishing for that species or species group in the specified subarea, regulatory area, or district (see § 679.20(d)(1)(iii)). Similarly, pursuant to § 679.21(b)(4) and (e)(7), if the Regional Administrator determines that a fishery category's bycatch allowance of halibut, red king crab, C. bairdi crab, or C. opilio crab for a specified area has been reached, the Regional Administrator will prohibit directed fishing for each species or species group in that fishery category in the area specified by regulation for the remainder of the season or fishing year.

Based on historic catch patterns and anticipated fishing activity, the Regional Administrator has determined that the groundfish allocation amounts in Table 19 will be necessary as incidental catch to support other anticipated groundfish fisheries for the 2022 and 2023 fishing years. Consequently, in accordance with § 679.20(d)(1)(i), the Regional Administrator establishes the DFA for the species and species groups in Table 19 as zero mt. Therefore, in accordance with § 679.20(d)(1)(iii), NMFS is prohibiting directed fishing for these sectors and species or species groups in the specified areas effective at 1200 hours, A.l.t., March 2, 2022, through 2400 hours, A.l.t., December 31, 2023. Also, for the BSAI trawl limited access sector, bycatch allowances of halibut, red king crab, C. bairdi crab, and C. opilio crab listed in Table 19 are insufficient to support directed fisheries. Therefore, in accordance with §§ 679.21(b)(4)(i) and (e)(7), NMFS is prohibiting directed fishing for these sectors, species, and fishery categories in the specified areas effective at 1200 hours, A.l.t., March 2, 2022, through 2400 hours, A.l.t., December 31, 2023.

Table 19—2022 and 2023 Directed Fishing Closures ¹
[Groundfish and halibut amounts are in metric tons. Crab amounts are in number of animals.]
Area | Sector | Species | 2022 Incidental catch allowance | 2023 Incidental catch allowance
Bogoslof District | All | Pollock | 250 | 250
Aleutian Islands subarea | All | Greenland Turbot | 877 | 764
Aleutian Islands subarea | All | ICA pollock | 2,500 | 2,500
|  | “Other rockfish” ² | 394 | 394
Aleutian Islands subarea | Trawl non-CDQ | Sablefish | 1,373 | 1,655
Eastern Aleutian District/Bering Sea | Non-amendment 80, CDQ, and BSAI trawl limited access | ICA Atka mackerel | 800 | 800
Eastern Aleutian District/Bering Sea | All | Blackspotted/Rougheye rockfish | 277 | 284
Eastern Aleutian District | Non-amendment 80, CDQ, and BSAI trawl limited access | ICA Pacific ocean perch | 100 | 100
Central Aleutian District | Non-amendment 80, CDQ, and BSAI trawl limited access | ICA Atka mackerel ICA Pacific ocean perch | 75 60 | 75 60
Western Aleutian District | Non-amendment 80, CDQ and BSAI trawl limited access | ICA Atka mackerel ICA Pacific ocean perch | 20 10 | 20 10
Western and Central Aleutian Districts | All | Blackspotted/Rougheye rockfish | 150 | 156
Bering Sea subarea | Trawl non-CDQ | Sablefish | 2,237 | 2,775
Bering Sea subarea | All | Pacific ocean perch | 8,799 | 8,463
|  | “Other rockfish”² | 638 | 781
|  | ICA pollock | 49,500 | 49,500
Bering Sea and Aleutian Islands | All | Shortraker rockfish | 460 | 460
|  | Skates | 25,500 | 25,500
|  | Sharks | 425 | 425
|  | Octopuses | 595 | 595
| Hook-and-line and pot gear | ICA Pacific cod | 400 | 400
| Non-amendment 80 and CDQ | ICA flathead sole | 3,000 | 3,000
|  | ICA rock sole | 6,000 | 6,000
| Non-amendment 80, CDQ, and BSAI trawl limited access | ICA yellowfin sole | 4,000 | 4,000
| BSAI trawl limited access | Rock sole/flathead sole/other flatfish—halibut mortality, red king crab Zone 1, C. opilio COBLZ, C. bairdi Zone 1 and 2 |  |
|  | Turbot/arrowtooth/Kamchatka/sablefish—halibut mortality, red king crab Zone 1, C. opilio COBLZ, C. bairdi Zone 1 and 2 |  |
|  | Rockfish—red king crab Zone 1 |  |
¹ Maximum retainable amounts may be found in Table 11 to 50 CFR part 679.
² “Other rockfish” includes all Sebastes and Sebastolobus species except for dark rockfish, Pacific ocean perch, northern rockfish, blackspotted/rougheye rockfish, and shortraker rockfish.

Closures implemented under the final 2021 and 2022 BSAI harvest specifications for groundfish (86 FR 11449, February 25, 2021) remain effective under authority of these final 2022 and 2023 harvest specifications and until the date specified in those closure notices. Closures are posted at the following website under the Alaska filter for Management Area: https://www.fisheries.noaa.gov/rules-and-announcements/bulletins. While these closures are in effect, the maximum retainable amounts at § 679.20(e) and (f) apply at any time during a fishing trip. These closures to directed fishing are in addition to closures and prohibitions found at 50 CFR part 679.

Listed AFA Catcher/Processor Sideboard Limits

Pursuant to § 679.64(a), the Regional Administrator is responsible for restricting the ability of listed AFA CPs to engage in directed fishing for groundfish species other than pollock to protect participants in other groundfish fisheries from adverse effects resulting from the AFA fishery and from fishery cooperatives in the directed pollock fishery. These restrictions are set out as sideboard limits on catch. On February 8, 2019, NMFS published a final rule (84 FR 2723) that implemented regulations to prohibit non-exempt AFA CPs from directed fishing for groundfish species or species groups subject to sideboard limits (see § 679.20(d)(1)(iv)(D) and Table 54 to 50 CFR part 679). Section 679.64(a)(1)(v) exempts AFA CPs from a yellowfin sole sideboard limit because the final 2022 and 2023 aggregate ITAC of yellowfin sole assigned to the Amendment 80 sector and BSAI trawl limited access sector is greater than 125,000 mt.

Section 679.64(a)(2) and Tables 40 and 41 to 50 CFR part 679 establish a formula for calculating PSC sideboard limits for halibut and crab caught by listed AFA CPs. The basis for these sideboard limits is described in detail in the final rules implementing the major provisions of the AFA (67 FR 79692, December 30, 2002) and Amendment 80 (72 FR 52668, September 14, 2007). PSC species listed in Table 20 that are caught by listed AFA CPs participating in any groundfish fishery other than pollock will accrue against the final 2022 and 2023 PSC sideboard limits for the listed AFA CPs. Section 679.21(b)(4)(iii), (e)(3)(v), and (e)(7) authorizes NMFS to close directed fishing for groundfish other than pollock for listed AFA CPs once a final 2022 or 2023 PSC sideboard limit listed in Table 20 is reached. Pursuant to § 679.21(b)(1)(ii)(C) and (e)(3)(ii)(C), halibut or crab PSC by listed AFA CPs while fishing for pollock will accrue against the PSC allowances annually specified for the pollock/Atka mackerel/“other species” fishery categories, according to § 679.21(b)(1)(ii)(B) and (e)(3)(iv).

Table 20—Final 2022 and 2023 BSAI AFA Listed Catcher/Processor Prohibited Species Sideboard Limits
PSC species and area ¹ | Ratio of PSC catch to total PSC | 2022 and 2023 PSC available to trawl vessels after subtraction of PSQ ² | 2022 and 2023 AFA catcher/processor sideboard limit ²
Halibut mortality BSAI | n/a | n/a | 286
Red king crab Zone 1 | 0.0070 | 28,576 | 200
C. opilio (COBLZ) | 0.1530 | 3,884,550 | 594,336
C. bairdi Zone 1 | 0.1400 | 741,190 | 103,767
C. bairdi Zone 2 | 0.0500 | 2,250,360 | 112,518
¹ Refer to § 679.2 for definitions of areas.
² Halibut amounts are in metric tons of halibut mortality. Crab amounts are in numbers of animals.

AFA Catcher Vessel Sideboard Limits

Pursuant to § 679.64(b), the Regional Administrator is responsible for restricting the ability of AFA CVs to engage in directed fishing for groundfish species other than pollock to protect participants in other groundfish fisheries from adverse effects resulting from the AFA fishery and from fishery cooperatives in the pollock directed fishery. On February 8, 2019, NMFS published a final rule (84 FR 2723) that implemented regulations to prohibit non-exempt AFA C/Vs from directed fishing for a majority of the groundfish species or species groups subject to sideboard limits (see § 679.20(d)(1)(iv)(D) and Table 55 to 50 CFR part 679). Section 679.64(b)(6) exempts AFA CVs from a yellowfin sole sideboard limit because the 2022 and 2023 aggregate ITAC of yellowfin sole assigned to the Amendment 80 sector and BSAI trawl limited access sector is greater than 125,000 mt. The remainder of the sideboard limits for non-exempt AFA C/Vs are in Table 21.

Section 679.64(b)(3) and (b)(4) and Tables 40 and 41 to 50 CFR part 679 establish formulas for setting AFA CV groundfish and halibut and crab PSC sideboard limits for the BSAI. The basis for these sideboard limits is described in detail in the final rules implementing the major provisions of the AFA (67 FR 79692, December 30, 2002) and Amendment 80 (72 FR 52668, September 14, 2007). Table 21 lists the final 2022 and 2023 AFA CV groundfish sideboard limits.

Table 21—Final 2022 and 2023 BSAI Pacific Cod Sideboard Limits for American Fisheries Act Catcher Vessels (CVs)
[Amounts are in metric tons]
Fishery by area/gear/season | Ratio of 1997 AFA CV catch to 1997 TAC | 2022 Initial TAC | 2022 AFA catcher vessel sideboard limits | 2023 Initial TAC | 2023 AFA catcher vessel sideboard limits
BSAI | n/a | n/a | n/a | n/a | n/a
Trawl gear CV | n/a | n/a | n/a | n/a | n/a
Jan 20-Apr 1 | 0.8609 | 21,944 | 18,892 | 21,505 | 18,514
Apr 1-Jun 10 | 0.8609 | 3,262 | 2,808 | 3,197 | 2,752
Jun 10-Nov 1 | 0.8609 | 4,448 | 3,829 | 4,359 | 3,753
Note: Section 679.64(b)(6) exempts AFA catcher vessels from a yellowfin sole sideboard limit because the 2022 and 2023 aggregate ITAC of yellowfin sole assigned to the Amendment 80 sector and BSAI trawl limited access sector is greater than 125,000 mt.

Halibut and crab PSC limits listed in Table 22 that are caught by AFA CVs participating in any groundfish fishery other than pollock will accrue against the 2022 and 2023 PSC sideboard limits for the AFA CVs. Section 679.21, at (b)(4)(iii), (e)(3)(v), and (e)(7), authorizes NMFS to close directed fishing for groundfish other than pollock for AFA CVs once a final 2022 and 2023 PSC sideboard limit listed in Table 22 is reached. Pursuant to § 679.21(b)(1)(ii)(C) and (e)(3)(ii)(C), halibut or crab PSC by AFA CVs while fishing for pollock will accrue against the PSC allowances annually specified for the pollock/Atka mackerel/“other species” fishery categories under § 679.21(b)(1)(ii)(B) and (e)(3)(iv).

Table 22—Final 2022 and 2023 American Fisheries Act Catcher Vessel Prohibited Species Catch Sideboard Limits for the Bsai 1
PSC species and area ¹ | Target fishery category ² | AFA catcher vessel PSC sideboard limit ratio | 2022 and 2023 PSC limit after subtraction of PSQ reserves ³ | 2022 and 2023 AFA catcher vessel PSC sideboard limit ³
Halibut | Pacific cod trawl | n/a | n/a | 887
| Pacific cod hook-and-line or pot | n/a | n/a | 2
| Yellowfin sole total | n/a | n/a | 101
| Rock sole/flathead sole/Alaska plaice/other flatfish ⁴ | n/a | n/a | 228
| Greenland turbot/arrowtooth/Kamchatka/sablefish | n/a | n/a |
| Rockfish | n/a | n/a | 2
| Pollock/Atka mackerel/other species ⁵ | n/a | n/a | 5
Red king crab Zone 1 | n/a | 0.2990 | 28,576 | 8,544
C. opilio COBLZ | n/a | 0.1680 | 3,884,550 | 652,604
C. bairdi Zone 1 | n/a | 0.3300 | 741,190 | 244,593
C. bairdi Zone 2 | n/a | 0.1860 | 2,250,360 | 418,567
¹ Refer to § 679.2 for definitions of areas.
² Target trawl fishery categories are defined at § 679.21(b)(1)(ii)(B) and (e)(3)(iv).
³ Halibut amounts are in metric tons of halibut mortality. Crab amounts are in numbers of animals.
⁴ Other flatfish for PSC monitoring includes all flatfish species, except for halibut (a prohibited species), Alaska plaice, arrowtooth flounder, flathead sole, Greenland turbot, Kamchatka flounder, rock sole, and yellowfin sole.
⁵ “Other species” for PSC monitoring includes skates, sharks, and octopuses.

Response to Comments

NMFS received no comments during the public comment period for the proposed BSAI groundfish harvest specifications.

Classification

NMFS has determined that the final harvest specifications are consistent with the FMP and with the Magnuson-Stevens Act and other applicable laws.

This action is authorized under 50 CFR 679.20 and is exempt from review under Executive Order 12866.

NMFS prepared an EIS for the Alaska groundfish harvest specifications and alternative harvest strategies (see ADDRESSES) and made it available to the public on January 12, 2007 (72 FR 1512). On February 13, 2007, NMFS issued the Record of Decision (ROD) for the Final EIS. In January 2022, NMFS prepared a Supplementary Information Report (SIR) for this action to provide a subsequent assessment of the action and to address the need to prepare a Supplemental EIS (SEIS) (40 CFR 1501.11(b); § 1502.9(d)(1)). Copies of the Final EIS, ROD, and annual SIRs for this action are available from NMFS (see ADDRESSES). The Final EIS analyzes the environmental, social, and economic consequences of the groundfish harvest specifications and alternative harvest strategies on resources in the action area. Based on the analysis in the Final EIS, NMFS concluded that the preferred alternative (Alternative 2) provides the best balance among relevant environmental, social, and economic considerations and allows for continued management of the groundfish fisheries based on the most recent, best scientific information. The preferred alternative is a harvest strategy in which TACs are set at a level within the range of ABCs recommended by the Council's SSC; the sum of the TACs must achieve the OY specified in the FMP. While the specific numbers that the harvest strategy produces may vary from year to year, the methodology used for the preferred harvest strategy remains constant.

The latest annual SIR evaluated the need to prepare a SEIS for the 2022 and 2023 groundfish harvest specifications. An SEIS should be prepared if (1) the agency makes substantial changes in the proposed action that are relevant to environmental concerns; or (2) significant new circumstances or information exist relevant to environmental concerns and bearing on the proposed action or its impacts (40 CFR 1502.9(d)(1)). After reviewing the information contained in the SIR and SAFE report, the Regional Administrator has determined that (1) approval of the 2022 and 2023 harvest specifications, which were set according to the preferred harvest strategy in the Final EIS, does not constitute a substantial change in the action; and (2) there are no significant new circumstances or information relevant to environmental concerns and bearing on the action or its impacts. Additionally, the 2022 and 2023 harvest specifications will result in environmental, social, and economic impacts within the scope of those analyzed and disclosed in the Final EIS. Therefore, an SEIS is not necessary to implement the 2022 and 2023 harvest specifications.

A final regulatory flexibility analysis (FRFA) was prepared. Section 604 of the Regulatory Flexibility Act (RFA) (5 U.S.C. 604) requires that, when an agency promulgates a final rule under 5 U.S.C. 553, after being required by that section, or any other law, to publish a general notice of proposed rulemaking, the agency shall prepare a FRFA. The following constitutes the FRFA prepared in this final action.

Section 604 of the RFA describes the required contents of a FRFA: (1) A statement of the need for, and objectives of, the rule; (2) a statement of the significant issues raised by the public comments in response to the initial regulatory flexibility analysis, a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping, and other compliance requirements of the rule, including an estimate of the classes of small entities which will be subject to the requirement and the type of professional skills necessary for preparation of the report or record; and (6) a description of the steps the agency has taken to minimize the significant economic impact on small entities consistent with the stated objectives of applicable statutes, including a statement of the factual, policy, and legal reasons for selecting the alternative adopted in the final rule and why each one of the other significant alternatives to the rule considered by the agency that affect the impact on small entities was rejected.

A description of this action, its purpose, and its legal basis are included at the beginning of the preamble to this final rule and are not repeated here.

NMFS published the proposed rule on December 3, 2021 (86 FR 68608). NMFS prepared an Initial Regulatory Flexibility Analysis (IRFA) to accompany the proposed action, and included the IRFA in the proposed rule. The comment period closed on January 3, 2022. No comments were received on the IRFA or on the economic impacts of the rule more generally. The Chief Counsel for Advocacy of the Small Business Administration did not file any comments on the proposed rule.

The entities directly regulated by this action are those that harvest groundfish in the exclusive economic zone of the BSAI and in parallel fisheries within State waters. These include entities operating catcher vessels and catcher/processors within the action area and entities receiving direct allocations of groundfish.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual gross receipts not in excess of $11 million for all its affiliated operations worldwide.

Using the most recent data available (2020), the estimated number of directly regulated small entities includes approximately 155 catcher vessels, 4 catcher/processors, and six CDQ groups. Some of these vessels are members of AFA inshore pollock cooperatives, Gulf of Alaska rockfish cooperatives, or BSAI Crab Rationalization Program cooperatives, and, since under the RFA the aggregate gross receipts of all participating members of the cooperative must meet the “under $11 million” threshold, the cooperatives are considered to be large entities within the meaning of the RFA. Thus, the estimate of 155 catcher vessels may be an overstatement of the number of small entities. Average gross revenues in 2020 were $530,000 for small hook-and-line vessels, $1.1 million for small pot vessels, $2.8 million for small trawl vessels, $6.6 million for hook-and-line CPs, and $3.1 million for pot gear CPs.

This final rule contains no information collection requirements under the Paperwork Reduction Act of 1995.

This action implements the final 2022 and 2023 harvest specifications, apportionments, and prohibited species catch limits for the groundfish fishery of the BSAI. This action is necessary to establish harvest limits for groundfish during the 2022 and 2023 fishing years and is taken in accordance with the FMP prepared by the Council pursuant to the Magnuson-Stevens Act. The establishment of the final harvest specifications is governed by the Council's harvest strategy for the catch of groundfish in the BSAI. The harvest strategy was previously selected from among five alternatives. Under this preferred alternative harvest strategy, TACs are set within the range of ABCs recommended by the SSC; the sum of the TACs must achieve the OY specified in the FMP; and while the specific TAC numbers that the harvest strategy produces may vary from year to year, the methodology used for the preferred harvest strategy remains constant. This final action implements the preferred alternative harvest strategy previously chosen by the Council to set TACs that fall within the range of ABCs recommended through the Council harvest specifications process and as recommended by the Council. This is the method for determining TACs that has been used in the past.

The final 2022 and 2023 TACs associated with preferred harvest strategy are those recommended by the Council in December 2021. OFLs and ABCs for each species or species group were based on recommendations prepared by the Council's Plan Team, and reviewed by the Council's SSC. The Council's TAC recommendations are consistent with the SSC's OFL and ABC recommendations, and the sum of all TACs remains within the OY for the BSAI consistent with § 679.20(a)(1)(i)(A). Because setting all TACs equal to ABCs would cause the sum of TACs to exceed an OY of 2.0 million mt, TACs for some species or species groups are lower than the ABCs recommended by the Plan Team and the SSC.

The final 2022 and 2023 OFLs and ABCs are based on the best available biological information, including projected biomass trends, information on assumed distribution of stock biomass, and revised technical methods to calculate stock biomass. The final 2022 and 2023 TACs are based on the best available biological and socioeconomic information. The final 2022 and 2023 OFLs, ABCs, and TACs are consistent with the biological condition of groundfish stocks as described in the 2021 SAFE report, which is the most recent, completed SAFE report. Accounting for the most recent biological information to set the final OFLs, ABCs, and TACs is consistent with the objectives for this action, as well as National Standard 2 of the Magnuson-Stevens Act (16 U.S.C. 1851(a)(2)) that actions shall be based on the best scientific information available.

Under this action, the ABCs reflect harvest amounts that are less than the specified overfishing levels. The TACs are within the range of ABCs recommended by the SSC and do not exceed the biological limits recommended by the SSC (the ABCs and overfishing levels). For some species and species groups in the BSAI, the Council recommended, and NMFS sets, TACs equal to ABCs, which is intended to maximize harvest opportunities in the BSAI. However, NMFS cannot set TACs for all species in the BSAI equal to their ABCs due to the constraining OY limit of 2.0 million mt. For this reason, some final TACs are less than the final ABCs. These specific reductions were reviewed and recommended by the Council's AP, and then reviewed and adopted by the Council for the final 2022 and 2023 TACs.

Based on the best available scientific data, and in consideration of the Council's objectives for this action, there are no significant alternatives that have the potential to accomplish the stated objectives of the Magnuson-Stevens Act and any other applicable statutes and that have the potential to minimize any significant adverse economic impact of the final rule on small entities. This action is economically beneficial to entities operating in the BSAI, including small entities. The action specifies TACs for commercially-valuable species in the BSAI and allows for the continued prosecution of the fishery, thereby creating the opportunity for fishery revenue. After public process, during which the Council solicited input from stakeholders, the Council concluded that these final harvest specifications would best accomplish the stated objectives articulated in the preamble for this final rule and in applicable statutes, and would minimize to the extent practicable adverse economic impacts on the universe of directly regulated small entities.

Adverse impacts on marine mammals, or endangered or threatened species, resulting from fishing activities conducted under this rule are discussed in the Final EIS and its accompanying annual SIRs (see ADDRESSES).

Pursuant to 5 U.S.C. 553(d)(3), the Assistant Administrator for Fisheries, NOAA, finds good cause to waive the 30-day delay in the date of effectiveness for this rule because delaying this rule is contrary to the public interest. The Plan Team review of the 2021 SAFE report occurred in November 2021, and based on the 2021 SAFE report the Council considered and recommended the final harvest specifications in December 2021. Accordingly, NMFS's review of the final 2022 and 2023 harvest specifications could not begin until after the December 2021 Council meeting, and after the public had time to comment on the proposed action.

For all fisheries not currently closed because the TACs established under the final 2021 and 2022 harvest specifications (86 FR 11449, February 25, 2021) were not reached, it is possible that they would be closed prior to the expiration of a 30-day delayed effectiveness period because their TACs could be reached within that period. If implemented immediately, this rule would allow these fisheries to continue fishing because some of the new TACs implemented by this rule are higher than the TACs under which they are currently fishing.

In addition, immediate effectiveness of this action is required to provide consistent management and conservation of fishery resources based on the best available scientific information. This is particularly pertinent for those species that have lower 2022 ABCs and TACs than those established in the 2021 and 2022 harvest specifications (86 FR 11449, February 25, 2021). If implemented immediately, this rule would ensure that NMFS can properly manage those fisheries for which this rule sets lower 2022 ABCs and TACs, which are based on the most recent biological information on the condition of stocks, rather than managing species under the higher TACs set in the previous year's harvest specifications.

Certain fisheries, such as those for pollock, are intensive, fast-paced fisheries. Other fisheries, such as those for sablefish, flatfish, rockfish, Atka mackerel, skates, sharks, and octopuses, are critical as directed fisheries and as incidental catch in other fisheries. U.S. fishing vessels have demonstrated the capacity to catch the TAC allocations in many of these fisheries. If the date of effectiveness of this rule were to be delayed 30 days and if a TAC were to be reached during those 30 days, NMFS would be required to close directed fishing or prohibit retention for the applicable species. Any delay in allocating the final TACs in these fisheries would cause confusion to the industry and potential economic harm through unnecessary discards, thus undermining the intent of this rule. Waiving the 30-day delay allows NMFS to prevent economic loss to fishermen that could otherwise occur should the 2022 TACs (set under the 2021 and 2022 harvest specifications) be reached. Determining which fisheries may close is nearly impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries, and causing them to close at an accelerated pace.

In fisheries subject to declining sideboard limits, a failure to implement the updated sideboard limits before initial season's end could deny the intended economic protection to the non-sideboard limited sectors. Conversely, in fisheries with increasing sideboard limits, economic benefit could be denied to the sideboard-limited sectors.

If these final harvest specifications are not effective by March 6, 2022, which is the start of the 2022 Pacific halibut season as specified by the IPHC, the fixed gear sablefish fishery will not begin concurrently with the Pacific halibut IFQ season. Delayed effectiveness of this action would result in confusion for sablefish harvesters and economic harm from the unnecessary discard of sablefish that are caught along with Pacific halibut, as both fixed gear sablefish and Pacific halibut are managed under the same IFQ program. Immediate effectiveness of these final 2022 and 2023 harvest specifications will allow the sablefish IFQ fishery to begin concurrently with the Pacific halibut IFQ season.

Finally, immediate effectiveness also would provide the fishing industry the earliest possible opportunity to plan and conduct its fishing operations with respect to new information about TAC limits. Therefore, NMFS finds good cause to waive the 30-day delay in the date of effectiveness under 5 U.S.C. 553(d)(3).

Small Entity Compliance Guide

This final rule is a plain language guide to assist small entities in complying with this final rule as required by the Small Business Regulatory Enforcement Fairness Act of 1996. This final rule's primary purpose is to announce the final 2022 and 2023 harvest specifications and prohibited species bycatch allowances for the groundfish fisheries of the BSAI. This action is necessary to establish harvest limits and associated management measures for groundfish during the 2022 and 2023 fishing years and is taken in accordance with the FMP prepared by the Council pursuant to the Magnuson-Stevens Act. This action directly affects all fishermen who participate in the BSAI fisheries. The specific amounts of OFL, ABC, TAC, and PSC amounts are provided in tables to assist the reader. These tables also are individually available online at https://www.fisheries.noaa.gov/alaska/sustainable-fisheries/alaska-groundfish-harvest-specifications. NMFS will announce closures of directed fishing in the Federal Register and information bulletins released by the Alaska Region. Affected fishermen should keep themselves informed of such closures.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: February 24, 2022.
Samuel D. Rauch, III,
Deputy Assistant Administrator for Regulatory Programs, National Marine Fisheries Service.

[FR Doc. 2022-04292 Filed 3-1-22; 8:45 am]

BILLING CODE 3510-22-P